ENVIRONMENTAL PROTECTION AGENCY

40 CFR Part 98

[EPA-HQ-OAR-2025-0186; FRL-12720-01-OAR]

RIN 2060-AW76

Reconsideration of the Greenhouse Gas Reporting Program

AGENCY: Environmental Protection Agency (EPA).

ACTION: Proposed rule.

SUMMARY: The U.S. Environmental Protection Agency (EPA) is proposing to amend the Greenhouse Gas Reporting Program (GHGRP) to remove program obligations for most source categories, including the distribution segment of the petroleum and natural gas systems source category (subpart W—Petroleum and Natural Gas Systems), and suspend program obligations for the remaining subpart W segments until reporting year 2034.

DATES:

Comments. Comments must be received on or before November 3, 2025. Comments on the information collection provisions submitted to the Office of Management and Budget (OMB) under the Paperwork Reduction Act (PRA) are best assured of consideration by OMB if OMB receives a copy of your comments on or before October 16, 2025.

Public hearing. The EPA will conduct a virtual public hearing on October 1, 2025. See SUPPLEMENTARY INFORMATION for information on registering for the virtual public hearing.

ADDRESSES: You may send comments, identified by Docket Id. No. EPA-HQ-OAR-2025-0186, by any of the following methods:

• Federal eRulemaking Portal: www.regulations.gov/ (our preferred method). Follow the online instructions for submitting comments.

• Mail: U.S. Environmental Protection Agency, EPA Docket Center, Office of Air and Radiation Docket, Mail Code 28221T, 1200 Pennsylvania Avenue NW, Washington, DC 20460.

• Hand Delivery or Courier: EPA Docket Center, William Jefferson Clinton West Building, Room 3334, 1301 Constitution Avenue NW, Washington, DC 20004. The Docket Center's hours of operations are 8:30 a.m. to 4:30 p.m., Monday-Friday (except Federal Holidays).

Instructions: All submissions received must include the Docket Id. No. for this proposed rule. Comments received may be posted without change to www.regulations.gov/, including any personal information provided. For detailed instructions on sending comments and additional information on the rulemaking process, see the “Public Participation” heading of the SUPPLEMENTARY INFORMATION section of this document.

The virtual hearing will be held using an online meeting platform, and the EPA will provide information on its website (www.epa.gov/ghgreporting) regarding how to register and access the hearing. Refer to the SUPPLEMENTARY INFORMATION section for additional information.

FOR FURTHER INFORMATION CONTACT: Jennifer Bohman, Greenhouse Gas Reporting Branch, Climate Change Division, Office of Atmospheric Protection (MC-6207A), Environmental Protection Agency, 1200 Pennsylvania Ave. NW, Washington, DC 20460; telephone number: (202) 343-9548; email address: GHGReporting@epa.gov.

SUPPLEMENTARY INFORMATION:

Written comments. Submit your comments, identified by Docket Id. No. EPA-HQ-OAR-2025-0186, at www.regulations.gov (our preferred method), or the other methods identified in the ADDRESSES section. Once submitted, comments cannot be edited or removed from the docket. The EPA may publish any comment received to its public docket. Do not submit to the EPA's docket at www.regulations.gov any information you consider to be confidential business information (CBI), proprietary business information (PBI), or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). Please visit www.epa.gov/dockets/commenting-epa-dockets for additional submission methods; the full EPA public comment policy; information about CBI, PBI, or multimedia submissions; and general guidance on making effective comments.

Participation in virtual public hearing. The virtual public hearing will be held on October 1, 2025. The hearing will convene at 8:00 a.m. Eastern Time (ET) and will conclude at 6:00 p.m. ET. The EPA may close the hearing 15 minutes after the last pre-registered speaker has testified if there are no additional speakers. The EPA will provide further information about the hearing on its website at: www.epa.gov/ghgreporting.

The EPA will begin pre-registering speakers for the hearing no later than October 1, 2025. To register to speak at the virtual hearing, please use the online registration form available at www.epa.gov/ghgreporting or contact us by email at GHGReporting@epa.gov. The last day to pre-register to speak at the hearing will be September 29, 2025. On September 30, 2025, the EPA will post a general agenda that will list pre-registered speakers in approximate order at: www.epa.gov/ghgreporting.

The EPA will make every effort to follow the schedule as closely as possible on the day of the hearing; however, please plan for the hearings to run either ahead of schedule or behind schedule.

Each commenter will have 4 minutes to provide oral testimony. The EPA encourages commenters to provide the EPA with a copy of their oral testimony electronically (via email) by emailing it to GHGReporting@epa.gov. The EPA also recommends submitting the text of your oral testimony as written comments to the rulemaking docket.

The EPA may ask clarifying questions during the oral presentations but will not respond to the presentations at that time. Written statements and supporting information submitted during the comment period will be considered with the same weight as oral testimony and supporting information presented at the public hearing.

Please note that any updates made to any aspect of the hearing will be posted online at www.epa.gov/ghgreporting. While the EPA expects the hearing to go forward as set forth above, please monitor our website or contact us by email at GHGReporting@epa.gov to determine if there are any updates. The EPA does not intend to publish a document in the Federal Register announcing updates.

If you require the services of an interpreter or special accommodation such as audio description, please pre-register for the hearing with the public hearing team and describe your needs by September 23, 2025. The EPA may not be able to arrange accommodations without advanced notice.

Regulated entities. This is a proposed regulation. If finalized, these proposed revisions would affect entities that submit annual greenhouse gas (GHG) reports pursuant to the GHGRP (40 CFR part 98). Entities that would be affected by this action are owners or operators of facilities that are direct emitters or suppliers of GHGs or that sequester carbon dioxide (CO2) gas underground. Regulated categories and entities include, but are not limited to, those listed in Table 1 of this preamble:

Table 1—Examples of Affected Entities by Category
Category | North American Industry Classification System (NAICS) | Examples of facilities that may be subject to 40 CFR part 98:
General Stationary Fuel Combustion Sources |  | Facilities operating boilers, process heaters, incinerators, turbines, and internal combustion engines.
| 211 | Extractors of crude petroleum and natural gas.
| 321 | Manufacturers of lumber and wood products.
| 322 | Pulp and paper mills.
| 325 | Chemical manufacturers.
| 324 | Petroleum refineries, and manufacturers of coal products.
| 316, 326, 339 | Manufacturers of rubber and miscellaneous plastic products.
| 331 | Steel works, blast furnaces.
| 332 | Electroplating, plating, polishing, anodizing, and coloring.
| 336 | Manufacturers of motor vehicle parts and accessories.
| 221 | Electric, gas, and sanitary services.
| 622 | Health services.
| 611 | Educational services.
Electric Power Generation | 2211 | Generation facilities that produce electric energy.
Adipic Acid Production | 325199 | All other basic organic chemical manufacturing: Adipic acid manufacturing.
Aluminum Production | 331313 | Primary aluminum production facilities.
Ammonia Manufacturing | 325311 | Anhydrous ammonia manufacturing facilities.
Calcium Carbide Production | 325180 | Other basic inorganic chemical manufacturing: calcium carbide manufacturing.
Carbon Dioxide Enhanced Oil Recovery Projects | 211120 | Oil and gas extraction projects using carbon dioxide enhanced oil recovery.
Caprolactam, Glyoxal, and Glyoxylic Acid Production | 325199 | All other basic organic chemical manufacturing.
Cement Production | 327310 | Cement manufacturing.
Ceramics Manufacturing | 327110 | Pottery, ceramics, and plumbing fixture manufacturing.
| 327120 | Clay building material and refractories manufacturing.
Coke Calcining | 299901 | Coke; coke, petroleum; coke, calcined petroleum.
Electronics Manufacturing | 334111 | Microcomputers manufacturing facilities.
| 334413 | Semiconductor, photovoltaic (PV) (solid-state) device manufacturing facilities.
| 334419 | Liquid crystal display (LCD) unit screens manufacturing facilities; Micro-electro-mechanical systems (MEMS) manufacturing facilities.
Electrical Equipment Manufacture or Refurbishment | 33531 | Power transmission and distribution switchgear and specialty transformers manufacturing facilities.
Electricity generation units that report through 40 CFR part 75 | 221112 | Electric power generation, fossil fuel (e.g., coal, oil, gas).
Electrical Equipment Use | 221121 | Electric bulk power transmission and control facilities.
Electrical transmission and distribution equipment manufacture or refurbishment | 33361 | Engine, Turbine, and Power Transmission Equipment Manufacturing.
Ferroalloy Production | 331110 | Ferroalloys manufacturing.
Fluorinated Greenhouse Gas Production | 325120 | Industrial gases manufacturing facilities.
Geologic Sequestration | NA | CO2 geologic sequestration sites.
Glass Production | 327211 | Flat glass manufacturing facilities.
| 327213 | Glass container manufacturing facilities.
| 327212 | Other pressed and blown glass and glassware manufacturing facilities.
Hydrochlorofluorocarbon (HCFC)-22 Production | 325120 | Industrial gas manufacturing: HCFC gases manufacturing.
Hydrofluorocarbon (HFC)-23 destruction processes that are not collocated with a HCFC-22 production facility and that destroy more than 2.14 metric tons of HFC-23 per year | 325120 | Industrial gas manufacturing: HFC gases manufacturing.
Hydrogen Production | 325120 | Hydrogen manufacturing facilities.
Industrial Waste Landfill | 562212 | Solid waste landfill.
Industrial Wastewater Treatment | 221310 | Water treatment plants.
Injection of Carbon Dioxide | 211 | Oil and gas extraction.
Iron and Steel Production | 333110 | Integrated iron and steel mills, steel companies, sinter plants, blast furnaces, basic oxygen process furnace (BOPF) shops.
Lead Production | 331 | Primary metal manufacturing.
Lime Manufacturing | 327410 | Lime production.
Magnesium Production | 331410 | Nonferrous metal (except aluminum) smelting and refining: Magnesium refining, primary.
Nitric Acid Production | 325311 | Nitrogenous fertilizer manufacturing: Nitric acid manufacturing.
Petroleum and Natural Gas Systems | 486210 | Pipeline transportation of natural gas.
| 221210 | Natural gas distribution facilities.
| 211120 | Crude petroleum extraction.
| 211130 | Natural gas extraction.
Petrochemical Production | 324110 | Petrochemicals made in petroleum refineries.
Petroleum Refineries | 324110 | Petroleum refineries.
Phosphoric Acid Production | 325312 | Phosphatic fertilizer manufacturing.
Pulp and Paper Manufacturing | 322110 | Pulp mills.
| 322120 | Paper mills.
| 322130 | Paperboard mills.
Miscellaneous Uses of Carbonate | Facilities included elsewhere.
Municipal Solid Waste Landfills | 562212 | Solid waste landfills.
| 221320 | Sewage treatment facilities.
Silicon Carbide Production | 327910 | Silicon carbide abrasives manufacturing.
Soda Ash Production | 325180 | Other basic inorganic chemical manufacturing: Soda ash manufacturing.
Suppliers of Carbon Dioxide | 325120 | Industrial gas manufacturing facilities.
Suppliers of Industrial Greenhouse Gases | 325120 | Industrial greenhouse gas manufacturing facilities.
Suppliers of Coal-based Liquid Fuels | 211130 | Coal liquefaction at mine sites.
| 221210 | Natural gas distribution facilities.
Suppliers of Natural Gas and Natural Gas Liquids | 211112 | Natural gas liquid extraction facilities.
Suppliers of Petroleum Products | 324110 | Petroleum refineries.
Titanium Dioxide Production | 325180 | Other basic inorganic chemical manufacturing: Titanium dioxide manufacturing.
Underground Coal Mines | 212115 | Underground coal mining.
Zinc Production | 331410 | Nonferrous metal (except aluminum) smelting and refining: Zinc refining, primary.
Importers and Exporters of Pre-charged Equipment and Closed-Cell Foams | 423730 | Air-conditioning equipment (except room units) merchant wholesalers.
| 333415 | Air-conditioning equipment (except motor vehicle) manufacturing.
| 423620 | Air-conditioners, room, merchant wholesalers.
| 449210 | Electronics and Appliance retailers.
| 326150 | Polyurethane foam products manufacturing.
| 335313 | Circuit breakers, power, manufacturing.
| 423610 | Circuit breakers and related equipment merchant wholesalers.

Table 1 of this preamble is not intended to be exhaustive but rather provides a guide for readers regarding entities likely affected by this proposed action. This table lists the types of entities that the EPA is now aware could potentially be affected by this action. Other types of entities than those listed in the table could also be subject to reporting requirements. Many entities that are affected by 40 CFR part 98 have GHG emissions from multiple source categories listed in Table 1 of this preamble. If you have questions regarding the applicability of this action to a particular facility, consult the FOR FURTHER INFORMATION CONTACT section.

Acronyms and Abbreviations. The following acronyms and abbreviations are used in this document.

BAMM best available monitoring methods

CAA Clean Air Act

CBI confidential business information

CEMS continuous emissions monitoring systems

CFR Code of Federal Regulations

CH4 methane

CO2 carbon dioxide

e-GGRT electronic Greenhouse Gas Reporting Tool

EPA U.S. Environmental Protection Agency

ET Eastern time

E.O. Executive Order

FR Federal Register

GHG greenhouse gas

GHGRP Greenhouse Gas Reporting Program

HCFC hydrochlorofluorocarbon

HFC hydrofluorocarbon

ICR information collection request

IRC Internal Revenue Code

IRS Internal Revenue Service

LCD liquid crystal display

LNG liquified natural gas

MECS Manufacturing Energy Consumption Survey

MEMS micro-electro-mechanical systems

MSW municipal solid waste

mmBTU million British thermal units

MTCO2e metric tons of CO2 equivalent

MSW municipal solid waste

N2O nitrous oxide

NAICS North American Industry Classification System

NSPS new source performance standards

NWRA National Waste and Recycling Association

OAR Office of Air and Radiation

OMB Office of Management and Budget

PBI proprietary business information

PV photovoltaic

RFA Regulatory Flexibility Act

SF6 sulfur hexafluoride

U.S. United States

UMRA Unfunded Mandates Reform Act of 1995

Contents

I. Background

A. How is this preamble organized?

B. Executive Summary

C. Background on This Proposed Rule

D. Legal Authority

II. Proposed Amendments to 40 CFR Part 98

A. Proposed Amendments and Rationale

B. Additional Source-Specific Considerations of the Proposed Amendments

C. Schedule

III. Impacts of the Proposed Amendments

IV. Statutory and Executive Order Reviews

A. Executive Order 12866: Regulatory Planning and Review and Executive Order 13563: Improving Regulation and Regulatory Review

B. Executive Order 14192: Unleashing Prosperity Through Deregulation

C. Paperwork Reduction Act (PRA)

D. Regulatory Flexibility Act (RFA)

E. Unfunded Mandates Reform Act (UMRA)

F. Executive Order 13132: Federalism

G. Executive Order 13175: Consultation and Coordination With Indian Tribal Governments

H. Executive Order 13045: Protection of Children From Environmental Health Risks and Safety Risks

I. Executive Order 13211: Actions that Significantly Affect Energy Supply, Distribution, or Use

J. National Technology Transfer and Advancement Act (NTTAA)

K. Determination Under CAA Section 307(d)

I. Background

A. How is this preamble organized?

Section I of this preamble contains background information on the origins and evolution of the GHGRP as well as the drivers for the EPA's reconsideration of this program. This section also discusses the EPA's legal authority under the Clean Air Act (CAA) to promulgate amendments to the program. Section II of this preamble describes the EPA's reconsideration of the GHGRP and the proposed amendments, including the specific revisions that the EPA is proposing for the general provisions of the program to implement the proposed amendments. Section III of this preamble describes the potential impacts of the proposed amendments. Finally, section IV of this preamble describes the statutory and executive order requirements applicable to this action.

B. Executive Summary

President Trump signed Executive Order (E.O.) 14154 titled, “Unleashing American Energy,” on January 20, 2025, and E.O. 14192 titled, “Unleashing Prosperity Through Deregulation,” on January 31, 2025. In response to these E.O.s, the EPA is reconsidering significant elements of the GHGRP. In this action, the EPA is proposing to eliminate GHG reporting requirements for all source categories under 40 CFR part 98 (hereafter referred to as “Part 98”) except for Petroleum and Natural Gas Systems (subpart W of Part 98). In addition, the EPA is proposing to suspend subpart W reporting requirements until January 1, 2034, and remove reporting requirements for the Natural Gas Distribution industry segment, consistent with CAA section 136, as revised in Public Law 119-21.¹ If this rule is finalized as proposed, there would be no reporting obligations under subpart W for reporting years prior to 2034; beginning January 1, 2034, all subpart W segments, except Natural Gas Distribution, would again be subject to program requirements. For the last 15 years, the EPA has collected data from GHGRP sources under CAA section 114 authority (42 U.S.C. 7414). CAA section 114, which provides the EPA with the authority to collect information, limits the authority of the EPA Administrator or authorized representative related to the following purposes: (A) developing or assisting: (1) implementation plans under CAA section 110 or section 111(d); (2) any standard of performance under CAA section 111; (3) any emission standard under CAA section 112; or (4) any regulation under CAA section 129; (B) determining whether a person is in violation of any standard or requirement of a plan; and (C) carrying out any provision (other than Title II with respect to a manufacturer of new motor vehicles or engines) of the CAA. For many of these sources, the EPA has provided no clear intention to use the information collected for that industry under the CAA, unlike all other information collection requests issued by the EPA under the CAA. To note, throughout the years, the EPA relied on other resources not appropriated specifically for that purpose to promulgate multiple additional rules ² related to the GHGRP. In 2022, CAA section 136 (42 U.S.C. 7436) established the Methane Emissions Reduction Program and required the EPA to impose and collect a waste emissions charge beginning with calendar year 2024 emission data from facilities in all segments of the petroleum and natural gas systems sector reported under subpart W except from the Natural Gas Distribution industry segment. On July 4, 2025, Congress amended CAA section 136(g) to amend the period under which a waste emissions charge is imposed and collected to begin with emissions reported for calendar year 2034 and later. Following the EPA's evaluation of the program, the EPA has determined that there is no statutory requirement to collect GHG emissions information for sectors other than the subpart W segments subject to the waste emissions charge (all of the subpart W segments except distribution, starting in 2034). In addition, the EPA has determined that the program imposes significant cost on the regulated community and eliminating the collection of these data would minimize the burdens of reporting and recordkeeping, consistent with the Paperwork Reduction Act.³ Therefore, the EPA is proposing to remove all GHG reporting requirements for non-subpart W sectors and the Natural Gas Distribution industry segment of subpart W and to suspend all GHG reporting requirements until reporting year (RY) 2034 for the remaining subpart W segments. Thus, most companies would not need to submit reports in the future, and subpart W facilities would not need to submit reports for reporting years again until RY2034. This proposal does not prevent private companies from continuing to collect information on GHGs independently. Additionally, any other Federal, state or local agencies or Tribes that may rely on the publicly available GHGRP data ⁴ could utilize other more efficient and potentially more accurate methods for collecting the necessary information that are utilized throughout other parts of the Federal government (e.g., voluntary consensus standards).

¹ See https://www.govinfo.gov/app/details/BILLS-119hr1eh.

² See: 75 FR 39736 (July 12, 2010); 75 FR 57669 (September 22, 2010); 75 FR 66434 (October 28, 2010); 75 FR 74458 (November 30, 2010); 75 FR 74774 (December 1, 2010); 75 FR 75060 (December 1, 2010); 75 FR 79092 (December 17, 2010); 75 FR 81338 (December 27, 2010); 76 FR 14812 (March 18, 2011); 76 FR 22825 (April 25, 2011); 76 FR 30782 (May 26, 2011); 76 FR 36339 (June 22, 2011); 76 FR 53057 (August 25, 2011); 76 FR 59533 (September 27, 2011); 76 FR 59542 (September 27, 2011); 76 FR 73866 (November 29, 2011); 76 FR 80554 (December 23, 2011); 77 FR 10373 (February 22, 2012); 77 FR 48072 (August 13, 2012); 77 FR 51477 (August 24, 2012); 78 FR 25392 (May 1, 2013); 78 FR 68162 (November 13, 2013); 78 FR 71904 (November 29, 2013); 79 FR 63750 (October 24, 2014); 79 FR 70352 (November 25, 2014); 79 FR 73750 (December 11, 2014); 80 FR 64262 (October 22, 2015); 81 FR 86490 (November 30, 2016); 81 FR 89188 (December 9, 2016); 89 FR 31802 (April 25, 2024).

³ See, e.g., PRA implementing regulations at 5 CFR 1320.1.

⁴ See https://ghgdata.epa.gov.

The EPA is proposing to make limited revisions to the subpart W regulations in this action, primarily to ensure consistency with the recent amendment to CAA section 136. Specifically, the EPA is proposing to suspend the subpart W reporting requirements until RY2034. Although reporting for subpart W is specifically required under CAA section 136, reporting is not needed for the Natural Gas Distribution industry segment of subpart W and reporting is not needed for the remaining subpart W industry segments until 2034. The EPA intends to issue a proposal addressing petitions for reconsideration of subpart W in a separate action.

C. Background on This Proposed Rule

The Fiscal Year (FY) 2008 Consolidated Appropriations Act authorized funding for and directed the EPA to “develop and publish a . . . [rule] to require mandatory reporting of GHG emissions above appropriate thresholds in all sectors of the economy of the United States.” Consolidated Appropriations Act, 2008, Public Law 110-161, 121 Stat 1844, 2128 (2008).⁵ In response to this direction, the EPA issued the Mandatary Reporting of Greenhouse Gases Rule (74 FR 56260; October 30, 2009, hereafter referred to as “2009 Final Rule”) one month after the end of Fiscal Year 2009. While the FY 2008 Consolidated Appropriations Act provided funding, the EPA cited its authority to develop the 2009 Final Rule under the authority provided to the Agency by CAA section 114. The 2009 Final Rule required reporting of GHG emissions by certain facilities (generally facilities emitting at least 25,000 metric tons of carbon dioxide equivalent (MTCO2e)) from across all sectors of the economy, including fossil fuel suppliers, industrial greenhouse gas suppliers, and direct greenhouse gas emitters. The EPA subsequently published numerous revisions to the GHGRP, eventually expanding the program to forty-seven source categories, for many of which the Agency has never clearly intended to develop regulations for that industry.⁶ ⁷ In 2022, Congress amended the CAA by adding section 136, “Methane Emissions and Waste Reduction Incentive Program for Petroleum and Natural Gas Systems.” Among other things, CAA section 136(c)-(g) required the EPA to impose and collect a waste emissions charge on methane emissions that exceeded specified thresholds from applicable facilities that reported more than 25,000 MTCO2e of greenhouse gases under subpart W (Petroleum and Natural Gas Systems). Applicable facilities, as defined in CAA section 136(d), include facilities in the following segments: Offshore petroleum and natural gas production; Onshore petroleum and natural gas production; Onshore natural gas processing; Onshore natural gas transmission compression; Underground natural gas storage; Liquified Natural Gas (LNG) storage; LNG import and export equipment; and Onshore petroleum and natural gas gathering and boosting. Notably, Congress excluded the Natural Gas Distribution segment from the waste emissions charge. CAA section 136(h) further required the EPA to revise the petroleum and natural gas systems (subpart W) source category of the GHGRP to ensure the reporting and calculation of charges is based on empirical data and reflects total methane emissions and waste emissions from covered facilities. The EPA subsequently issued a “Greenhouse Gas Reporting Rule: Revisions and Confidentiality Determinations for Petroleum and Natural Gas Systems” rule that amended subpart W to address potential gaps in reporting of emissions data and to add new emissions calculation methodologies or improve existing emissions calculation methodologies to ensure the reporting under subpart W is based on empirical data and reflects total methane emissions from applicable facilities, consistent with the directives of CAA section 136(h) (89 FR 42062; May 14, 2024, hereafter referred to as “May 2024 Final Rule”).⁸ On July 4, 2025, Congress amended CAA section 136(g) to amend the period under which a waste emissions charge is imposed and collected, to begin with emissions reported for calendar year 2034 and later.

⁵ Direction was included the following year in the Omnibus Appropriations Act of 2009 that “Of the funds provided in the Environmental Programs and Management Account, not less than $6,500,000 shall be used for activities to develop and publish a final rule not later than June 26, 2009, and to begin implementation, to require mandatory reporting of greenhouse gas emissions above appropriate thresholds in all sectors of the economy of the United States, as required by Public Law 110-161.” Public Law 111-8.

⁶ See 75 FR 39736 (July 12, 2010), 75 FR 74458 (November 30, 2010), 75 FR 74774 (December 1, 2010), 75 FR 75060 (December 1, 2010) and 89 FR 31802 (April 25, 2024).

⁷ Although the 2009 Final Rule established Manure Management (subpart JJ of Part 98) as a source category, the EPA has never collected information from this source category. Congress has included direction in appropriations that specified that appropriated funds could not be used for this purpose. For example, the 2024 Consolidated Appropriations Act stated that “notwithstanding any other provision of law, none of the funds made available in this or any other Act may be used to implement any provision in a rule, if that provision requires mandatory reporting of greenhouse gas emissions from manure management systems.” www.congress.gov/bill/118th-congress/house-bill/4366/text.

⁸ Greenhouse Gas Reporting Rule: Revisions and Confidentiality Determinations for Petroleum and Natural Gas Systems. 40 CFR part 98; [EPA-HQ-OAR-2023-0234; FRL-10246-02-OAR]; RIN 2060-AV83.

The GHGRP applies to certain industrial facilities that emit GHGs (primarily facilities emitting at least 25,000 MTCO2e), upstream suppliers of fossil fuels and industrial GHGs (such as CO2 and HFCs), and industries that capture and sequester CO2 as a means of reducing CO2 emissions. Approximately 8,200 facilities, suppliers, and CO2 injection sites submit data each year. In the most recent Information Collection Request (ICR), the EPA conservatively estimated that the annual burden of this effort on the regulated community to be $303 million annually,⁹ including the estimated burden on the oil and natural gas sector.

⁹ U.S. EPA ICR Greenhouse Gas Reporting Program Renewal www.regulations.gov/document/EPA-HQ-OAR-2022-0883-0020. The EPA estimated additional costs to regulated entities in the final rule “Revisions and Confidentiality Determinations for Data Elements Under the Greenhouse Gas Reporting Rule” (89 FR 31802; April 25, 2024) and “Greenhouse Gas Reporting Rule: Revisions and Confidentiality Determinations for the Petroleum and Natural Gas Systems” (89 FR 42062; May 14, 2024).

D. Legal Authority

The EPA is proposing to remove regulatory obligations going forward for all non-subpart W sectors and the Natural Gas Distribution industry segment of subpart W (Petroleum and Natural Gas Systems), and to suspend reporting for the remainder of subpart W until RY2034. These regulatory obligations were previously imposed under CAA section 114, which forms the basis of the GHGRP for most industry segments except subpart W starting in RY2034 under CAA section 136.¹⁰ The authority for this proposed action is CAA section 114 and the Agency's implied authority to reconsider prior actions taken under a grant of statutory authority.¹¹ CAA section 114(a)(1) authorizes the Administrator to require emissions sources, persons subject to the CAA, or persons whom the Administrator believes may have necessary information to monitor and report emissions and provide such other information the Administrator requests for the purposes of carrying out any provision of the CAA; however, there are limits to this authority.

¹⁰ The EPA intends to further address GHGRP subpart W in a future rulemaking.

¹¹ See Clean Air Council v. Pruitt, 862 F.3d 1, 8 (D.C. Cir. 2017) (“Agencies obviously have broad discretion to reconsider a regulation at any time.”); see also FDA v. Wages & White Lion Invs., LLC, 145 S. Ct. 898 (2025); FCC v. Fox TV Stations, Inc., 556 U.S. 502 (2009); Motor Vehicle Mfrs. Ass'n v. State Farm Mut. Auto. Ins. Co., 463 U.S. 29 (1983).

The Agency “may” require the information “[f]or the purpose” of (i) developing an enumerated set of implementation plans, standards, and regulations; (ii) determining whether any person is in violation of such plans and standards; or (iii) carrying out any provision of the CAA other than a provision of Title II.¹² Relatedly, the entities targeted by the reporting requirement must, in the belief of the Administrator, “have information necessary for the purposes set forth in this subsection.” ¹³

¹² CAA section 114(a).

¹³ CAA section 114(a)(1).

Regarding subpart W, CAA section 136 (c)-(g) required the EPA to impose and collect a waste emissions charge on methane emissions that exceeded specified thresholds from applicable facilities that reported more than 25,000 MTCO2e of greenhouse gases under subpart W. CAA section 136(h) further required the EPA to revise the petroleum and natural gas systems (subpart W) source category of the GHGRP to ensure the reporting and calculation of charges is based on empirical data and reflects total methane emissions and waste emissions from covered facilities. The May 2024 Final Rule amended subpart W to address CAA section 136 obligations, including addressing potential gaps in reporting of emissions data and to add new emissions calculation methodologies or improve existing emissions calculation methodologies consistent with the directives of CAA section 136(h). On July 4, 2025, Congress amended CAA section 136(g) to amend the period under which a waste emissions charge is imposed and collected to begin with emissions reported for calendar year 2034 and later.

The EPA proposes to conclude that the EPA does not have the authority to collect GHGRP data under CAA section 114(a)(1) for those sectors not subject to CAA section 136, including the Natural Gas Distribution segment of subpart W, because the reporting requirements do not serve an underlying statutory purpose. The EPA also proposes to conclude that the EPA does not have the authority to collect GHGRP data under CAA section 114(a)(1) or CAA section 136 for those subpart W sectors subject to CAA section 136 until RY2034, as reporting under subpart W is not statutorily required under CAA section 136 until RY2034. The EPA notes that CAA section 114(a)(1) authorizes the collection of information “on a one-time, periodic or continuous basis,” but believes that the statute is best read to require a closer nexus between continuous reporting obligations and an underlying statutory purpose, particularly given the Agency's obligation to take the cost of information collection and reporting into account when taking action.¹⁴ The EPA also acknowledges that this interpretation represents a change from prior GHGRP rulemakings. Nevertheless, we believe that this interpretation is most consistent with the text of the statute and supported by the Agency's experience with the GHGRP since 2011. The EPA seeks comment on this interpretation, including on any legitimate reliance on the Agency's prior interpretation of CAA section 114 and the GHGRP reporting obligations that resulted therefrom.

¹⁴ Michigan v. EPA, 576 US 743 (2015).

In the alternative, the EPA proposes to rescind the aspects of the GHGRP that rely on CAA section 114 on the basis that this authority is discretionary, and the Administrator no longer believes the information is necessary to carry out the provisions of the CAA, including relevant rulemaking and enforcement functions. It has been over 15 years since the EPA originally promulgated the GHGRP information collection requirements, and since 2011 it has not used most of the information collected to carry out other provisions under the CAA. For example, for many of these industries the information is neither necessary for developing the regulations enumerated in CAA section 114(a) nor necessary for identifying violations of relevant implementation plans or standards. Experience has shown that even if the EPA has previously utilized GHGRP data, the EPA could instead collect such information from other sources, including particularized CAA section 114 information collection requests and information submitted by states, Tribes, and local governments during the CAA section 110 implementation plan review process and collaborative enforcement efforts. The EPA's assessment is that we would have ample information possible from these other sources to carry out our statutory obligations. The EPA is aware that there are some stakeholders who have opted to rely on certain information collected through the aspects of the GHGRP that rely on CAA section 114 (see section II.A of this preamble). The EPA considered whether it would be appropriate and lawful to retain subparts of the GHGRP from which the EPA or other Federal agencies have previously utilized GHGRP data, but believes that such use has either been for purposes other than those enumerated in CAA section 114(a) (and, thus, these uses do not serve an underlying statutory purpose under the CAA) or appropriately could be addressed through collection from other sources. The EPA seeks comment on this alternative proposal to rescind the GHGRP (except for nine of the ten segments in subpart W, which we are proposing to suspend until RY2034 consistent with CAA section 136), as an exercise in discretion, including on any legitimate reliance interest that bears on the statutory purposes for which CAA section 114(a) authorizes the Agency to impose information collection and reporting obligations.

II. Proposed Amendments to 40 CFR Part 98

A. Proposed Amendments and Rationale

In accordance with the purposes of CAA section 114 and the Paperwork Reduction Act, the EPA is proposing to remove the requirements of 40 CFR part 98 for all source categories under Part 98 other than petroleum and natural gas systems and is also proposing to remove the Natural Gas Distribution industry segment from the petroleum and natural gas systems source category (subpart W—Petroleum and Natural Gas Systems). For the remaining subpart W provisions and the subpart W-related requirements of the general provisions, in accordance with the purposes of CAA sections 114 and 136 and the Paperwork Reduction Act, the EPA is also proposing to modify the years of applicability for reporting under subpart W to suspend reporting after RY2024 until RY2034.

The proposed changes would revise the general provisions to modify the applicability of the rule to remove the data collection, monitoring, recordkeeping, and reporting requirements for all existing direct emitter, supplier, and carbon sequestration source categories after RY2024, with the exception of the petroleum and natural gas source category. The proposed amendments would otherwise remove and reserve the subpart-specific applicability, definitions, thresholds, calculation methodologies, monitoring and quality assurance requirements, missing data procedures, and recordkeeping and reporting requirements for all specified direct emitter, supplier source, and carbon sequestration categories. The result of these proposed changes would be that reporting under the GHGRP would cease following RY2024, except for most subpart W sources, which would not resume reporting until RY2034. Details on the proposed revisions and subpart-specific considerations are discussed in section II.B of this document.

The EPA is proposing these revisions to Part 98 following its review of the utility of collecting GHG emissions data within the context of the CAA. As discussed in section I.C of this preamble, the Agency established the GHGRP under CAA section 114 authority and consistent with appropriations by Congress under the FY2008 Consolidated Appropriations Act to establish a rule requiring mandatory reporting of GHG emissions above appropriate thresholds “in all sectors of the economy of the United States.” To the extent that the Administrator believes that there is a future need for an emissions regulation that requires additional information from regulated stakeholders, the EPA can issue a new information collect request (ICR) using its CAA section 114 authority as it does for every other emissions issue within the CAA. Likewise, to the extent that the Administrator believes additional information is required to identify potential violations of the CAA and its implementing regulations, the EPA can utilize existing sources of information or issue a targeted CAA section 114 ICR.

The FY 2008 Consolidated Appropriations Act provided funds for activities to develop and publish draft and final rules, by identified dates, to require mandatory reporting of GHG emissions above appropriate thresholds in all sectors of the economy of the United States, but it did not require continuous information collection. The 2009 Omnibus Appropriations Act similarly provided only for such activities in connection with a final rule to be issued by June 26, 2009, and to begin implementation.¹⁵ Further, in the 2009 Final Rule, the EPA explained that it relied on the authority provided under CAA section 114, not the Appropriations Act, for the implementation of the rule.¹⁶

¹⁵ Omnibus Appropriations Act, 2009; Public Law 111-8, March 11, 2009.

¹⁶ See, e.g., 74 FR 56286 (October 30, 2009): “EPA is issuing this rule under the authority of the CAA, and indeed EPA could have issued this rule absent the direct instruction from Congress. . . Thus, we do not agree that the appropriations language limit[s] EPA's ability to collect the information under this rule, either in duration or scope of the information requested.”

As explained in section I.D of this preamble, CAA section 114(a)(1) authorizes the EPA to, among other things, require certain persons on “a one-time, periodic, or continuous basis” to keep records, make reports, undertake monitoring, sample emissions, or provide such other information that the Administrator believes is necessary in carrying out specified provisions of the CAA. The EPA proposes to conclude that CAA section 114 does not authorize the GHGRP as presently constituted or, in the alternative, to exercise its discretion to rescind the GHGRP, (except for most of subpart W, for which the EPA would suspend reporting until RY2034 consistent with CAA section 136), because the Administrator no longer believes the information collected under the rule is necessary to implementing relevant provisions of the CAA.

Over the life of the GHGRP, the EPA developed a reporting framework to evaluate the scope of U.S. GHG emissions, upstream supply, and sequestration and capture. This framework was developed in response to the FY 2008 Congressional provisions to collect data on GHGs from “both upstream production and downstream sources” ¹⁷ and “in all sectors of the economy” in order to collect a national data set that would be sufficiently comprehensive for use in analyzing a range of GHG policies and programs under the CAA. In the development of the 2009 Final Rule, the EPA sought to balance the emissions coverage and data needs that were required for a robust data set for policy analysis with the number of reporters (and the associated burden of reporting).

¹⁷ From the accompanying joint explanatory statement to the FY 2008 Appropriations Act: “The Agency is further directed to include in its rule reporting of emissions resulting from upstream production and downstream sources, to the extent that the Administrator deems it appropriate.”

In this action, the EPA reviewed the source categories for which reporting is required under the GHGRP and considered whether ongoing data collection may continue to be useful to meet the Agency's statutory obligations (e.g., for development of standards for similar source categories under the regulations enumerated in CAA section 114(a)). With limited exceptions, to date, the EPA has not proceeded with developing emissions standards that would apply to the majority of source categories reporting to the GHGRP. For example, GHGRP data from the petroleum and natural gas, municipal solid waste landfill, and carbon capture and sequestration source categories were previously analyzed to inform the development of new source performance standards (NSPS) and emission guidelines (EG) under CAA section 111 for oil and natural gas facilities (81 FR 35824; June 3, 2016), municipal solid waste landfills (81 FR 59332; August 29, 2016), and fossil-fuel fired electricity generating units (89 FR 39798; May 9, 2024); however, the EPA has not implemented standards for most additional source categories covered by the GHGRP. The EPA is not planning to develop such regulations at this time. Additionally, the information collected under the GHGRP is also not necessary nor helpful to develop such regulations or to inform development of new source performance standards under CAA section 111, given the EPA's authority to collect such information on a more targeted and relevant basis through particularized CAA section 114 ICRs and other sources of information. In other words, if GHG data are needed to inform these regulations in the future, the EPA would be able to collect more targeted and more relevant information through particularized CAA section 114 ICRs. For these reasons, the EPA has determined from its review that the information collected under the GHGRP is not necessary to carry out the relevant provisions of the CAA. The EPA is not intending to use further continuous annual collection of reported data from numerous source categories, as such continuous collection is unnecessary to inform the EPA's knowledge of these industry sectors, emissions, or trends at this time.

Additionally, throughout the years, the EPA relied on other resources not appropriated specifically for that purpose to promulgate multiple additional rules related to the GHGRP. On April 25, 2024, the EPA promulgated a rule adding greenhouse gas monitoring and reporting for five new source categories: coke calcining; ceramics manufacturing; calcium carbide production; caprolactam, glyoxal, and glyoxylic acid production; and facilities conducting geologic sequestration of carbon dioxide with enhanced oil recovery (89 FR 31802, hereafter referred to as “April 2024 Final Rule”), without any clear plan.¹⁸ These source categories, which were required to begin collecting data January 1, 2025, for reports for RY2025, would have provided data from less than 50 facilities in total, and we anticipate based on estimates devised from already available information that the emissions from these facilities would be a relatively small contribution to total U.S. emissions and would not significantly change our understanding of overall U.S. GHG emissions and supply. Hence, following our consideration of removing reporting obligations for similarly sized source categories (and pursuant to our review under E.O. 14154), we propose to remove data collection requirements for these entities.

¹⁸ Revisions and Confidentiality Determinations for Data Elements Under the Greenhouse Gas Reporting Rule. 40 CFR parts 9 and 98 [EPA-HQ-OAR-2019-0424; FRL-7230-01-OAR] RIN 2060-AU35.

In the development of this action, the EPA considered whether to retain reporting for any source categories, as well as opportunities for reducing the burden of reporting for any retained source categories (e.g., reducing the frequency of reporting, removing or streamlining specific data requirements, or removing small emission sources). The EPA also considered the alternative of transitioning the GHGRP from mandatory to voluntary reporting. Under this scenario, facilities that have made the investment in the monitoring systems required to collect the data under the existing program could elect to continue to gather and report this emissions information to satisfy internal requirements, such as corporate sustainability goals. A voluntary GHGRP would maintain flexibility for sources that opt to gather and report this information while providing a national GHG emissions framework. This approach could allow for a national data set to inform policy and program development while significantly lowering the burden on regulated entities. However, a voluntary reporting program could also result in submittal of incomplete or piecemeal reports, and the verification and accuracy of the data submitted would be limited. For the reasons described in this section, the EPA ultimately determined that maintaining continuous or intermittent reporting under any of these source categories, including voluntary reporting, is inconsistent with CAA section 114 or appropriately could be addressed through collection from other sources. Additionally, collection of data for nine of ten industry segments under subpart W is also not necessary to meet the requirements of CAA section 136 until reporting year 2034. The EPA also acknowledges that the data collected and published by the GHGRP is used for non-CAA statutory reasons by various state, Tribal, local, Federal, and nongovernmental entities (including industry and the public) to track, inform, and evaluate policy regarding potential reductions of GHG emissions and for other purposes. For example, the data collected under the GHGRP is used to inform the phase down of HFC production and consumption under the American Innovation and Manufacturing (AIM) Act, and the EPA understands that several states use the emissions estimation, reporting methodologies, and data from the GHGRP to develop or supplement state-level GHG emissions inventory programs. However, for gases regulated under the AIM Act, this information, if needed, could be collected as part of any program directly related to the AIM Act or for the purposes of states, collected under state authorities to support state programs. Through the GHGRP, the EPA has also published monitoring, review, and verification plans and geologic sequestration data for facilities engaged in the sequestration of CO2 for underground storage. The Treasury Department and the Internal Revenue Service (IRS) make reference to these plans and associated annual data in regulations under section 45Q of the Internal Revenue Code (IRC), the credit for carbon oxide sequestration, and the related Treasury Decision.¹⁹ The Treasury Department and the IRS also refer to the subpart W regulation in the preamble of the final regulations under section 45V of the IRC, the credit for clean hydrogen production.²⁰ The EPA considers the use of GHGRP data for such purposes an additional benefit for these entities that is not required to carry out the Agency's functions under the CAA, and believes that information could be provided in different, more efficient, ways. Because these purposes are not the basis for our authority to collect the data under CAA section 114 (i.e., these purposes are not relevant to the EPA's carrying out CAA provisions), these purposes are not an adequate statutory basis for continuing to require collection and reporting of the data. In addition, the EPA anticipates that some stakeholders would need to make administrative revisions to their programs to accommodate the proposed removals from Part 98. For example, the Treasury Department and the IRS have issued regulations for purposes of the prevailing wage and apprenticeship requirement of the energy credit of section 48 of the IRC which point to the values found in Table C-1 to subpart C of Part 98.²¹ Removal of the GHGRP would affect such references, and in this example case, we anticipate that the Treasury Department and the IRS may need to revise the regulation given that Table C-1 is proposed to be removed. The EPA expects that such amendments could allow for different options for stakeholders to potentially qualify for tax credits, and believes that, regardless, this use of GHGRP reporting data is not a purpose that triggers our authority under CAA section 114.

¹⁹ See T.D. 9944 (January 15, 2021), available at: www.federalregister.gov/documents/2021/01/15/2021-00302/credit-for-carbon-oxide-sequestration.

²⁰ T.D. 10023 (January 10, 2025), available at: https://www.federalregister.gov/documents/2025/01/10/2024-31513/credit-for-production-of-clean-hydrogen-and-energy-credit.

²¹ Treasury Reg. § 1.48-13(e)(7).

In addition, there are surveys conducted by other parts of the U.S. government that can inform GHG emissions data in the absence of GHGRP data collection. For example, the Manufacturing Energy Consumption Survey (MECS) is a national sample survey that collects information on the stock of U.S. manufacturing establishment and their energy consumption and expenditures. MECS is currently conducted on a quadrennial basis. Fuel consumption is an important input in the calculation of a facility's greenhouse gas emissions for many facilities. Although the MECS does not provide the same level of detail nor does it include all of the sources of emissions currently captured by the GHGRP, in keeping with the directives of E.O. 14154 and E.O. 14192, the Agency can no longer justify the cost of collecting data for all source categories at this time. The GHGRP requires mandatory reporting from over 8,200 facilities, suppliers, and CO2 injection sites. The total cost of reporting is estimated to be $303 million per year. Subpart W reporting accounts for $256 million of the annual costs, of which the Natural Gas Distribution industry segment represents $3 million per year. Therefore, suspending all reporting until 2034 would save $303 million per year from 2025-2033. Requiring reporting for only subpart W (minus distribution) starting in 2034 would save approximately $50 million per year in 2034 and future years. These cost savings estimates are based on data collection and reporting costs documented in current ICRs covering the GHGRP, as further explained in section III. Continued data collection across all sectors does not provide additional benefits with respect to our statutory obligations relative to these costs. The EPA seeks comment on the costs of GHGRP reporting to industry stakeholders and on whether such costs are commensurate to any relevant benefits.

In sum, the EPA believes it has more than satisfied the Congressional direction provided under the FY 2008 Consolidated Appropriations Act and FY 2009 Omnibus Act and that it is appropriate at this time to discontinue the collection of information from all sources that do not have a statutory requirement to collect GHG emissions. As discussed previously in this section and section I.D of this preamble, the EPA proposes to conclude that CAA section 114 does not support imposing collection requirements for this information or, at minimum, that the Agency should no longer exercise its discretion to utilize our CAA section 114 authority in this manner.

We note that the data collected for nine of ten industry segments under subpart W of Part 98 will be necessary to meet the requirements of CAA section 136 beginning with RY2034. The proposed revisions to Part 98 do not include any proposed actions with respect to facilities in the petroleum and natural gas systems source category or obligations under the general provisions of the program relevant to subpart W facilities, except the following: (1) revisions to the date of applicability of this rule, if finalized, to resume with reporting year 2034 and (2) revisions to remove reporting obligations for the Natural Gas Distribution industry segment. The EPA previously promulgated revisions to subpart W in the May 2024 Final Rule to meet the requirement of CAA section 136(h). The EPA received three administrative petitions on the May 2024 Final Rule and intends to reconsider aspects of that final rule, including evaluating changes to subparts W and C of Part 98, in a separate notice and comment rulemaking that would apply to RY2034 and later, if this rule is finalized as proposed. Details regarding the provisions of subparts C and W are discussed in section II.B of this document.

B. Additional Source-Specific Considerations of the Proposed Amendments

1. Subpart A—General Provisions

For the reasons explained in section II.A of this preamble, the EPA is proposing several changes to subpart A of Part 98 (General Provisions) that limit the applicability of the Part 98 reporting rule to the 2034 reporting year (i.e., annual GHG reports covering calendar year 2034 activities due to the EPA on or before March 31, 2035) and future reporting years and to limit the applicability for those years to facilities in the petroleum and natural gas systems source category (subpart W of Part 98—Petroleum and Natural Gas Systems).This would not apply to the Natural Gas Distribution industry segment because, as noted in section II.A and described in detail in section II.B.3 of this document, in this action the EPA is proposing to remove GHGRP requirements for this segment. These proposed changes are intended to eliminate the general provisions of subpart A of Part 98 for all sources for which the EPA is proposing to remove reporting obligations (i.e., other than subpart W) and to remove reporting obligations for all subparts for reporting years 2025 through reporting year 2033. The EPA is proposing to revise paragraph 40 CFR 98.2(a)(2), which includes applicability conditions and requirements for facilities listed in Table A-4 to subpart A of Part 98, to remove any reference to inclusion of miscellaneous use of carbonate (under subpart U of Part 98) and stationary fuel combustion (under subpart C of Part 98) in the facility's annual report. We are proposing these revisions to paragraph 40 CFR 98.2(a)(2) as reporting under the subpart C and subpart U source categories would no longer be required for RY2025 and the future years. The EPA is proposing to revise Table A-4 to subpart A of Part 98 that provides a list of source categories that are applicable to the rule under 40 CFR 98.2(a)(2). Our proposed revisions to Table A-4 to subpart A would remove all source categories on the list with the exception of petroleum and natural gas systems (subpart W of Part 98) and revise the years of applicability to reporting year 2034 and future years. The source categories currently listed in this table that we are proposing to remove would no longer be required to report GHG data beyond the 2024 reporting year. For subpart W facilities, facilities would no longer be required to report GHG data for reporting years 2025 through 2033.

The EPA is proposing to remove and reserve Table A-3 to subpart A of Part 98 that provides a list of source categories that are applicable to the rule under 40 CFR 98.2(a)(1). The source categories currently listed in this table would no longer be required to report GHG data beyond the 2024 reporting year. We are also proposing to remove and reserve paragraph 40 CFR 98.2(a)(1) that includes applicability conditions that would no longer apply with the removal of Table A-3 to subpart A of Part 98.

The EPA is proposing to remove and reserve 40 CFR 98.2(a)(3) which provides applicability conditions for facilities that only contain general stationary fuel combustion sources. These applicability conditions apply to facilities that operate stationary fuel combustion sources (30 mmBTU/hour or greater and 25,000 MTCO2e or more per year in combined emissions) and are not otherwise covered under any reporting methodology or subpart of the rule.

The EPA is proposing to remove and reserve 40 CFR 98.2(a)(4) that provides applicability conditions for supplier categories and refers to Table A-5 of subpart A of Part 98, which we are also proposing to remove and reserve. The EPA is proposing to remove and reserve paragraphs 40 CFR 98.2(b)(2) and 98.2(b)(3) that refer to subparts C and U of Part 98 respectively, both of which we are proposing to remove and reserve. The EPA is proposing to remove and reserve paragraphs 98.2(d) through 98.2(g) that include threshold calculations that would no longer be relevant with the proposed removal of multiple facility and supplier source categories. The EPA is also proposing to remove and revise language in 40 CFR 98.2(i) that refers to facility and supplier source categories that would no longer be subject to this proposed rule. The EPA is proposing to remove and reserve Table A-5 to subpart A of Part 98 that provides a list of supplier categories that are applicable to the rule under 40 CFR 98.2(a)(4). The supplier categories currently listed in this table would no longer be required to report GHG data beyond the 2024 reporting year. In addition, we are proposing to remove and reserve 40 CFR 98.2(i)(4) that extends the off-ramping provisions of 40 CFR 98.2(i) to supplier categories. This language would no longer be required as supplier categories would no longer be subject to the rule. Similarly, the EPA is proposing to revise sections 40 CFR 98.1 through 98.6 to remove references to the term “suppliers” as suppliers source categories would no longer be included under this proposal. For example, we are proposing to adjust the definitions of “North American Industry Classification System (NAICS) code(s)” and “United States parent company(s)” to remove the references to “suppliers.” Similarly, the EPA is proposing to remove a number of definitions under 40 CFR 98.6 that refer to terms used in facility and supplier source categories that we are proposing to reserve and would no longer be subject to the rule.

The EPA is also proposing to remove references to the Natural Gas Distribution industry segment in 40 CFR 98.4(n), the paragraph in subpart A that describes the alternative provisions for changes in owners and operators for industry segments with a unique definition of facility as defined in 40 CFR 98.238.

The EPA is also proposing that sources no longer required to report for RY2025 and future years through these proposed changes to Tables A-3 through A-5 to subpart A would no longer be subject to any requirements in subpart A, including the recordkeeping schedule under 40 CFR 98.3(g). The EPA is also proposing that facilities in the petroleum and natural gas systems sector required to report for RY2024 and earlier would not be subject to any requirements in subpart A, including the recordkeeping schedule under 40 CFR 98.3(g) from the effective date of the final rule for this proposal, if finalized, until they are again subject to reporting in 2034. Therefore, no facilities would be expected to resubmit or amend their reports for the 3- or 5-year periods following the original submissions for RY2024 and earlier if this rule is finalized as proposed. Under 40 CFR 98.3(h), regulated entities are required to submit amended reports if they discover a substantive error. As the regulated entities would no longer have this obligation (or for petroleum and natural gas systems would not have this obligation until RY2034 and later) under the proposed revisions going forward, the EPA would not maintain the electronic functionality to support these resubmissions and would similarly not expect to receive hard copy resubmissions.

The EPA is proposing to revise 40 CFR 98.3(b) to add a new paragraph that would extend the reporting deadline for RY2025 reports for GHGRP reporters. As described in section II.C of this preamble, the EPA expects that the amendments in this preamble would be effective sixty days after publication. The EPA expects that there would not be enough time between the signature of the final amendments and March 31, 2026, the RY2025 reporting deadline. Therefore, the EPA is proposing to revise 40 CFR 98.3(b) to add a new paragraph that would extend the reporting deadline for RY2025 to June 10, 2026, for these amendments to be effective for RY2025.

In addition to the amendments proposed above, the EPA is also proposing to remove outdated language in subpart A of Part 98 that is no longer needed and that may cause confusion in the future. The EPA is proposing to remove 40 CFR 98.3(b)(1), which clarified the 2011 reporting year schedule for certain sources and is no longer needed. Similarly, the EPA is proposing to remove all provisions under 40 CFR 98.3(d) and 98.3(j), which were special provisions for best available monitoring methods (BAMM) and abbreviated emissions reporting that only applied to the 2010 through 2013 reporting years and are no longer needed. Finally, the EPA is proposing to remove numerous definitions from 40 CFR 98.6. These terms are only used in source categories that the EPA is proposing to remove, and so these terms would no longer need to be defined.

2. Subpart C—General Stationary Fuel Combustion Sources

Subpart C is a subpart that contains stationary fuel combustion source emissions. The emissions reported under subpart C include CO2, methane (CH4), and nitrous oxide (N2O). Stationary fuel combustion sources include, but are not limited to, boilers, combustion turbines, engines, incinerators, and process heaters. Subpart C excludes flares (unless otherwise required by provisions of another subpart of Part 98 to use methodologies in subpart C), portable equipment (as defined in 40 CFR 98.6), emergency generators and emergency equipment (as defined in 40 CFR 98.6), agricultural irrigation pumps, and combustion of hazardous waste (except for co-fired fuels). Specific pilot lights and hazardous waste combustors are also not required to report (see 40 CFR 98.30(c) and 40 CFR 98.30(d) for more detail).

Prior to 2010, owners and operators of certain facilities in the petroleum and natural gas industry reported emissions from a broad range of stationary fuel combustion sources under subpart C. When the EPA established subpart W, three industry segments (i.e., Onshore production, Onshore gathering and boosting, Natural Gas Distribution) started reporting emissions from stationary and portable fuel combustion equipment (portable includes equipment such as well drilling and completion equipment, workover equipment, and skid-mounted compressors) under subpart W. Fugitive, vented, and combustion emissions from portable equipment were included in the threshold determination and reporting requirements for subpart W (for certain subpart W segments) in the November 2010 final rule due to the unique nature of the petroleum and natural gas industry. Portable combustion emissions are a large contributor to GHG emissions to those subsectors: emissions from portable combustion equipment (as described above) accounted for over 45 percent of total emissions from onshore petroleum and natural gas production.

All other applicable industry segments (Offshore petroleum and natural gas production, Onshore natural gas processing, Onshore natural gas transmission compression, Underground natural gas storage, LNG storage, and LNG import and export equipment) report emissions from only stationary fuel combustion sources under subpart C. For example, for petroleum and natural gas facilities that report under subpart C, emissions from combustion turbines or emissions routed to combustion devices from W processes, e.g., emissions routed from storage tanks to process heaters, would get reported under subpart C. Combustion emissions are a substantial portion (approximately two thirds) of oil and gas sector emissions.

If this rule is finalized as proposed, a large fraction of subpart W facilities that report under subpart C (67 percent of reporters in these segments that are currently above 25,000 MTCO2e) would likely fall below the 25,000 metric ton CO2e threshold for subpart W and would eventually discontinue reporting under the program.

For the reasons explained in section II.A of this preamble, the EPA is proposing to fully remove the requirements for direct emitters to annually report combustion-related GHG emissions under subpart C of Part 98. Alternatively, the EPA is considering and taking comment on a modification to the requirements of subpart C that would limit the applicability of subpart C to subpart W (Petroleum and Natural Gas Systems) facilities over the same reporting years that would be applicable to subpart W facilities (i.e., suspended until RY2034 and future years). This would not apply to the Natural Gas Distribution industry segment because, as described in section II.B.3 of this preamble, in this action the EPA is proposing to remove GHGRP requirements for this segment.

In the May 2024 Final Rule, the EPA finalized revisions to ensure that emissions reporting under subpart W is based on empirical data and to allow owners and operators to submit appropriate empirical data to demonstrate the extent to which a charge is owed in future implementation of CAA section 136, as directed by CAA section 136(h). The May 2024 Final Rule also finalized the addition of emission sources to ensure that subpart W reflects total methane emissions from the applicable facilities and finalized revisions to improve data verification and transparency. The EPA received petitions on the May 2024 Final Rule on several issues, including a request to move combustion emissions reporting for some industry segments from subpart W to subpart C. The EPA sent a response to the subpart W petitions for reconsideration on March 26, 2025, in which the EPA stated that it intends to issue a Federal Register notice initiating a rulemaking process, including public notice and comment, that includes this issue. A separate notice of proposed rulemaking is forthcoming, in which we intend to address the question of where combustion emissions should be reported for oil and gas facilities. We note that the industry segments that report emissions from stationary or portable fuel combustion equipment under subpart W calculate emissions according to 40 CFR 98.233(z), which cross-references subpart C for some calculation methodologies. The EPA intends to address any cross-referencing issues as part of that future separate proposed rulemaking on subpart W.

3. Subpart W—Petroleum and Natural Gas Systems

Subpart W covers facilities in ten industry segments of the petroleum and natural gas industry: Onshore petroleum and natural gas production; Offshore petroleum and natural gas production; Onshore natural gas processing; Onshore natural gas transmission compression; Onshore petroleum and natural gas gathering and boosting; Onshore natural gas transmission pipelines; Underground natural gas storage; LNG storage; LNG Import and Export Equipment; and Natural Gas Distribution.

In the May 2024 Final Rule, the EPA finalized revisions to ensure that emissions reporting under subpart W is based on empirical data and to allow owners and operators to submit appropriate empirical data to demonstrate the extent to which a charge is owed in future implementation of CAA section 136, as directed by CAA section 136(h). The May 2024 Final Rule also finalized the addition of emission sources to ensure that subpart W reflects total methane emissions from the applicable facilities, as directed by CAA section 136(h), and finalized revisions to improve data verification and transparency. In 2022, CAA section 136 established the Methane Emissions Reduction Program and requires the EPA to impose and collect a waste emissions charge beginning with calendar year 2024 emission data from the petroleum and natural gas systems sector reported under subpart W. On July 4, 2025, Congress amended CAA section 136(g) to amend the period under which a waste emissions charge is imposed and collected to begin with emissions reported for calendar year 2034 and later. As noted above, this amendment removes statutory requirements for all subpart W industry segments (except the Natural Gas Distribution industry segment, which is not subject to CAA section 136) until 2034.

Additionally, in this action, the EPA is proposing to remove GHGRP requirements for the Natural Gas Distribution industry segment within subpart W, which are not required or necessary under CAA section 136. Specifically, the EPA is proposing several amendments to remove the Natural Gas Distribution industry segment from subpart W. These proposed amendments include removing the Natural Gas Distribution industry segment definition in 40 CFR 98.230(a)(8), the Natural Gas Distribution industry segment-specific reporting threshold in 40 CFR 98.231(a)(2), the list of emission sources for which natural gas distribution facilities currently calculate and report emissions in 40 CFR 98.232(i), and the definition of “facility with respect to natural gas distribution for purposes of reporting under this subpart and for the corresponding subpart A requirements” in 40 CFR 98.238. The EPA is also proposing to remove references to the Natural Gas Distribution industry segment as necessary from the calculation method requirements in 40 CFR 98.233 and the reporting requirements in 40 CFR 98.236 for the emission sources listed in 40 CFR 98.232(i), including equipment leaks, stationary fuel combustion sources, other large release events, blowdown vent stacks, natural gas pneumatic device venting, and crankcase vents. The EPA is also proposing to remove references to the Natural Gas Distribution industry segment and emission factors specific to that industry segment in Tables W-1, W-5, and W-6 to Part 98.²²

²² The EPA is also proposing to revise the formatting of the first three sets of emission factors in Table W-1 to show the industry segments for which those emission factors apply as a list separated by commas rather than a bulleted list. This proposed amendment would improve the clarity of the table for reporters in the affected industry segments.

For the reasons explained in section II.A of this preamble, in this action, the EPA is also proposing to suspend the requirements for petroleum and natural gas facilities to report under subpart W, as described in section II.B.1 of this preamble. However, the EPA is aware that the data for the petroleum and natural gas systems source category are used by different governmental organizations in support of their regulatory programs. For example, the Treasury Department and the IRS also refer to the subpart W regulation in the preamble of the final regulations under section 45V of the IRC, the credit for clean hydrogen production (90 FR 2224, January 10, 2025). Although the EPA acknowledges this use of data reported under subpart W, that purpose and such use of GHGRP data does not fall under the purposes of the CAA section 114 (i.e., are not relevant to the EPA's carrying out of CAA provisions) as discussed in section II.A of this preamble. Therefore, the EPA is requesting comment on the proposed suspension of reporting under subpart W until reporting year 2034.

4. Subpart HH—Municipal Solid Waste Landfills

In the April 2024 Final Rule, the EPA finalized revisions to subpart HH (Municipal Solid Waste Landfills) of Part 98 that lowered landfill gas collection efficiencies by 10-percentage points for all reporting municipal solid waste (MSW) landfills with a gas collection system, regardless of whether the landfill conducted surface emissions monitoring. The final action was based on comments received in response to the May 2023 proposed rule (88 FR 32852; May 22, 2023) and review of recent emissions measurement studies for landfills with gas collection systems.

The EPA received an administrative petition for reconsideration from the National Waste and Recycling Association (NWRA) on June 24, 2024, regarding the EPA's determination to reduce landfill default collection efficiency values. NWRA requested that the EPA reconsider the finalized revision to the collection efficiency values based on their argument that the public was not “afforded adequate notice of EPA's ultimate decision to reduce existing collection efficiencies for all landfills, irrespective of whether a landfill was conducting [surface emissions monitoring]” therefore claiming that the final determination is not a “logical outgrowth” of the original proposal. NWRA also stated the final lower collection efficiency values will overestimate emissions across the sector and requested the EPA to reconsider the final values. On August 8, 2024, EPA responded to NWRA granting reconsideration on this issue. NWRA's petition for reconsideration and the EPA's response are available in the docket for this rulemaking (Docket Id. No. EPA-HQ-OAR-2025-0186).

The EPA is proposing to remove the reporting requirements of subpart HH for the reasons explained in section II.A of this preamble. However, the EPA is also seeking comment on the collection efficiency default value in order to respond to and meet any obligations of the petition for reconsideration. Specifically, we are seeking comment on whether the collection efficiency values used in subpart HH for all subject landfills with a gas collection system should be reverted back to the values originally used prior to the April 2024 Final Rule (i.e., 60 percent for areas with daily cover, 75 percent for areas with intermediate cover, and 95 percent for areas with final cover), if the collection efficiency values finalized in the April 2024 Final Rule should be maintained (i.e., 50 percent for daily cover, 65 percent for intermediate cover, and 85 percent for final cover), or if the collection efficiency values should be revised further based on current published literature and available data, available in the docket for this rulemaking (Docket Id. No. EPA-HQ-OAR-2025-0186), should the EPA not finalize the proposed change to eliminate all reporting under subpart HH.

5. Subparts PP—Suppliers of Carbon Dioxide, RR—Geologic Sequestration of Carbon Dioxide, UU—Injection of Carbon Dioxide, and VV—Geologic Sequestration of Carbon Dioxide With Enhanced Oil Recovery Using ISO 27916

The GHGRP contains four subparts directly related to carbon capture and sequestration (CCS). These include subpart PP (Suppliers of Carbon Dioxide), subpart RR (Geologic Sequestration of Carbon Dioxide), subpart UU (Injection of Carbon Dioxide), and subpart VV (Geologic Sequestration of Carbon Dioxide with Enhanced Oil Recovery Using ISO 27916). For the reasons explained in section II.A of this preamble, the EPA is proposing to fully remove the requirements for reporters under these subparts.

Subpart PP (Suppliers of Carbon Dioxide) covers facilities that capture and/or produce CO2 from production wells for the purpose of supplying CO2 for commercial applications or underground injection. It also covers importers and exporters of bulk CO2. Subpart RR (Geologic Sequestration of Carbon Dioxide) covers any well or group of wells that inject a CO2 stream for long-term containment in subsurface geologic formations. Facilities that inject carbon dioxide for enhanced oil recovery are required to report data under either subpart UU or subpart VV or can opt to report under subpart RR instead of subpart UU or VV by submitting a subpart RR monitoring, reporting, and verification plan for EPA approval. Subpart UU (Injection of Carbon Dioxide) covers any well or group of wells that inject a CO2 stream into the subsurface. This includes any wells used to enhance oil and gas recovery, unless those wells are a part of a facility that has opted to report data under subpart RR. Subpart VV, finalized in the April 2024 Final Rule, applies to facilities that use the International Standards Organization (ISO) standard designated as CSA Group (CSA)/American National Standards Institute (ANSI) ISO 27916:2019, Carbon Dioxide Capture, Transportation and Geological Storage—Carbon Dioxide Storage Using Enhanced Oil Recovery (CO2-EOR) as a means of quantifying geologic sequestration. Subpart VV does not apply to EOR facilities that have opted to report under subpart RR.

The EPA is aware that the data for certain source categories are used by different governmental organizations in support of their regulatory programs. For example, as noted previously, the Treasury Department and the IRS have issued regulations that provide guidance regarding taxpayer credit for carbon oxide sequestration under section 45Q of the Internal Revenue Code.²³ These regulations, and related preamble discussion in the Treasury Decision, refer to requirements under the GHGRP.²⁴ The Treasury Department and the IRS have also requested comment on whether data reported under subpart PP of Part 98 (Suppliers of Carbon Dioxide) could be used to substantiate carbon capture amounts.²⁵ Although the EPA acknowledges this use of the GHGRP, that purpose and such use of GHGRP efforts does not fall under the purposes of the CAA that authorize ICRs under CAA section 114 (i.e., are not relevant to the EPA's carrying out of CAA provisions) as discussed in section II.A of this preamble. Therefore, the EPA is requesting comment on the proposed removal of all source categories related to carbon capture and sequestration, including subpart PP (Suppliers of Carbon Dioxide), subpart RR (Geologic Sequestration of Carbon Dioxide), subpart UU (Injection of Carbon Dioxide), and subpart VV (Geologic Sequestration of Carbon Dioxide with Enhanced Oil Recovery Using ISO 27916).

²³ Treasury Reg. § 1.45Q-1 through -5.

²⁴ T.D. 9944 (January 15, 2021), available at: www.federalregister.gov/documents/2021/01/15/2021-00302/credit-for-carbon-oxide-sequestration.

²⁵ Notice 2022-57, 2022-47 I.R.B. 482, available at www.irs.gov/pub/irs-drop/n-22-57.pdf.

C. Schedule

The EPA is proposing that these amendments, if finalized, would become effective within sixty days of publication in the Federal Register. Because the proposed amendments would remove the reporting obligations for most reporters following RY2024 (with the exception of owners and operators of petroleum and natural gas facilities subject to subpart W (Petroleum and Natural Gas Systems), which would resume reporting obligations in RY2034 for all segments except Natural Gas Distribution), reporters would cease reporting GHG data under Part 98 within sixty days of publication of the final rule in the Federal Register. The EPA is also proposing to remove the electronic capabilities to receive any reporting information until needed for 2034 reporting for the remainder of subpart W. Petroleum and natural gas systems facilities under subpart W (excluding Natural Gas Distribution) would be required to submit their next subpart W report (for RY2034) by March 31, 2035, and annually thereafter in accordance with 40 CFR 98.3(b).

III. Impacts of the Proposed Amendments

In this action, the EPA is proposing to remove GHG reporting requirements for most source categories under 40 CFR part 98 and suspend reporting requirements for most segments of petroleum and natural gas systems (subpart W of Part 98—Petroleum and Natural Gas Systems) until RY2034 (starting January 1, 2034), consistent with CAA section 136. The EPA is proposing to remove GHG reporting requirements for the Natural Gas Distribution segment of subpart W.

To estimate impacts of this rule, the EPA quantified direct cost savings from reduced labor, operations and maintenance (O&M), and capital costs required to comply with measurement and reporting requirements of the GHGRP.²⁶ Because this is a reporting rule and there are no requirements to reduce emissions, there are no expected emission changes or monetized changes in benefits from emissions. Other potential impacts of this rule relate to the potential relevance of the reported data to policy making, transparency, and market efficiency. This rule may also have indirect impacts on other Federal, state or local agencies, Tribes, or nongovernmental entities (including industry and the public) that may rely on the GHGRP data for non-CAA statutory reasons. Examples of such uses include informing the phase down of HFC production and consumption under the AIM Act, implementation of 45Q and 45V credits, and use in state-level GHG inventory programs (see section II of this preamble). Although the magnitude of these impacts or the response by non-EPA parties to adapt to these changes is too uncertain to quantify, the EPA invites comment or data that could be used to inform analysis for the final rule.

²⁶ For more information on how the EPA estimated the impacts of this proposal, see the document “Impacts of Reconsideration of the Greenhouse Gas Reporting Program” in the docket for this rulemaking (Docket Id. No. EPA-HQ-OAR-2025-0186).

Compared to the current reporting requirements, the EPA estimates cost savings for reporters to the GHGRP resulting from this rule at $303 million per year. The portion of these annual cost savings associated with the petroleum and natural gas industry (subpart W) is approximately $256 million per year, while the cost savings associated with other industries is $46.9 million per year. The estimated cost savings were derived from multiple sources, including the most recent programmatic ICR renewal, incorporation of incremental burden from the 2024 GHGRP Final Rule and the 2024 Subpart W Rule, and subsequent adjustments for inflation. The labor cost estimates have been updated to reflect 2024 labor rates and updated projections of reporters based on RY2023 facilities. The EPA did not re-analyze labor, capital, or O&M costs of existing program requirements, but relied on past estimates. Table 2 of this preamble demonstrates the annual cost savings resulting from this rule over the next 9 years.

²⁷ These values are calculated using a 3 percent consumption discount rate.

Table 2—Annual Cost Savings of the GHGRP for Reporting Year 2025-2033
[2024$/year] ²⁷
Cost type | Pre-2024 GHGRP costs ¹ | 2024 GHGRP rule incremental costs ² | 2024 Subpart W rule incremental costs ³ | Total of three original ICRs | Total adjusted costs ⁴
Labor Costs | $61.9 million | $2.7 million | $169.4 million | $234.0 million | $247.7 million.
Capital Costs | $0 | $0 | $0 | $0 | $0.
O&M Costs | $33.3 million | $2.7 million | $14.1 million | $50.1 million | $55.0 million.
Total Costs | $95.2 million | $5.4 million | $183.6 million | $284.1 million | $302.7 million.
¹ Proposed Information Collection Request; Comment Request; Information Collection Request for the Greenhouse Gas Reporting Program. FRL-10918-01-OAR.
² Revisions and Confidentiality Determinations for Data Elements Under the Greenhouse Gas Reporting Rule. 40 CFR parts 9 and 98; [EPA-HQ-OAR-2019-0424; FRL-7230-01-OAR]; RIN 2060-AU35.
³ Greenhouse Gas Reporting Rule: Revisions and Confidentiality Determinations for Petroleum and Natural Gas Systems. 40 CFR part 98; [EPA-HQ-OAR-2023-0234; FRL-10246-02-OAR]; RIN 2060-AV83.
⁴ Total costs were adjusted for 2024 labor rates and updated projections of reporters.

The proposed revisions in this rulemaking would delay requirements that apply to the petroleum and natural gas systems source category of the Greenhouse Gas Reporting Rule, as well as eliminate all requirements that apply to all other categories. The EPA anticipates that the proposed revisions would significantly decrease costs for reporters. To the extent consideration of costs is relevant to the EPA's proposal for meeting its obligation under the CAA, these anticipated cost savings are reasonable.

As discussed in section IV of this preamble, the EPA is proposing to implement these changes beginning for RY2025. While reporting to subpart W would be delayed for all industry segments (except Natural Gas Distribution, which would be removed), all associated data collection costs would be reintroduced beginning in 2034. Because of the delay of reporting to subpart W until 2034, reporters may incur capital costs in 2034 to re-establish data collection and reporting systems. The impacts estimates here do not include estimates of this potential capital cost because they rely on existing cost estimates and estimates of potential startup costs are not available. For this reason, cost savings in 2034 may be overestimated. The annual cost savings and total net present value of cost savings for these amendments are shown in Table 3 of this preamble, which fall between $2.0 billion and $2.4 billion in cost reductions from the GHGRP. To accurately reflect the present value of these savings, a 3 percent and 7 percent discount rate was applied over the 10-year analysis period.

Table 3—Total Discounted Cost Savings for the Proposed Rule, 2025-2034
[2024$/year]
Year | Annual cost savings | 3 Percent discount rate | 7 Percent discount rate
2025 | $302.7 million | $293.9 million | $282.9 million.
2026 | $302.7 million | $285.3 million | $264.4 million.
2027 | $302.7 million | $277.0 million | $247.1 million.
2028 | $302.7 million | $268.9 million | $230.9 million.
2029 | $302.7 million | $261.1 million | $215.8 million.
2030 | $302.7 million | $253.5 million | $201.7 million.
2031 | $302.7 million | $246.1 million | $188.5 million.
2032 | $302.7 million | $238.9 million | $176.2 million.
2033 | $302.7 million | $232.0 million | $164.6 million.
2034 | $49.7 million | $37.0 million | $25.3 million.
Total Present Value |  | $2.4 billion | $2.0 billion.

Table 4 of this preamble summarizes impacts for this rule. Net present value (NPV) and equivalent annualized value (EAV) are presented using discount rates of 3 percent and 7 percent, and using 2024 labor rates. EAV values over the analysis period of 2025 to 2034 are somewhat lower than the annual impacts in 2025 to 2033 because in 2034 reporting would resume under subpart W, excepting the Natural Gas Distribution industry segment.

Table 4—Total Projected Cost Savings and Net Benefits for the Proposed Rule, 2025-2034
[Million 2024$/year]
| 3 Percent discount rate: PV | 3 Percent discount rate: EAV | 7 Percent discount rate: PV | 7 Percent discount rate: EAV
Total Cost Savings | $2,400 | $281 | $2,000 | $284
Net Cost Savings | 2,400 | 281 | 2,000 | 284
Non-Monetized Impacts | Indirect impacts on other Federal, state or local agencies, Tribes, or non-governmental entities that rely on the GHGRP data for non-CAA statutory reasons.

IV. Statutory and Executive Order Reviews

Additional information about these statutes and Executive Orders can be found at www.epa.gov/laws-regulations/laws-and-executive-orders.

A. Executive Order 12866: Regulatory Planning and Review and Executive Order 13563: Improving Regulation and Regulatory Review

This action is an economically significant regulatory action that was submitted to the Office of Management and Budget (OMB) for review. Any changes made in response to E.O. 12866 review have been documented in the docket for this rulemaking (Docket Id. No. EPA-HQ-OAR-2025-0186). The EPA prepared an analysis of the potential cost savings associated with this action. This analysis is described in section III of this preamble.

B. Executive Order 14192: Unleashing Prosperity Through Deregulation

This action is expected to be an Executive Order 14192 deregulatory action. Details on the estimated cost savings of this proposed rule can be found in the EPA's analysis of the impacts on this proposed action (see section III of this preamble).

C. Paperwork Reduction Act (PRA)

This action does not impose any new information collection burden under the PRA. The information collection activities in this action have been submitted for approval to OMB under the PRA. The ICR document that the EPA prepared has been assigned EPA ICR number 7815.01 and OMB control number 2060-NEW. You can find a copy of the ICR in the docket for this rulemaking (Docket Id. No. EPA-HQ-OAR-2025-0186) and it is briefly summarized here. The information collection requirements are not enforceable until OMB approves them. Once finalized and approved, this ICR will consolidate reporting requirements from EPA ICR number 2300.20 (OMB control number 2060-0629), ICR number 2773.02 (OMB control number 2060-0748) and ICR number 2774.02 (OMB control number 2060-0751), and thus those ICRs would be discontinued. The EPA is not proposing to add any new reporting requirements to the GHGRP in this action. Instead, the EPA is proposing to remove existing reporting requirements, and so the Agency anticipates that this proposed action would relieve information collection burden. As described further in section III of this preamble, the EPA estimates cost savings from these changes at $303 million per year. The total estimated burden and cost for reporting and recordkeeping due to these amendments are presented here.

Respondents/affected entities: Owners and operators of facilities that must report their GHG emissions and other data to the EPA to comply with 40 CFR part 98.

Respondent's obligation to respond: The result of these proposed changes would be no obligation to respond with mandatory reporting under the GHGRP ceasing following RY2024, except for most petroleum and natural gas sources, that would not be required to report for reporting years 2025 through 2033.

Estimated number of respondents: 0.

Frequency of response: The proposed reconsideration would remove annual reporting requirements for the majority of GHGRP sectors and the Natural Gas Distribution industry segment, and would suspend annual reporting for the remaining petroleum and natural gas industry segments from RY2025 to RY2034.

Total estimated burden: 0 hours per year, by the three years covered by this information collection.

Total estimated costs: $0 per year.

An Agency may not conduct or sponsor, and a person is not required to respond to, a collection of information unless it displays a currently valid OMB control number. The OMB control numbers for the EPA's regulations in 40 CFR are listed in 40 CFR part 9. Submit your comments on the Agency's need for this information, the accuracy of the provided burden estimates and any suggested revisions to the respondent burden to the EPA using the docket identified at the beginning of this rule (Docket Id. No. EPA-HQ-OAR-2025-0186). The EPA will respond to any ICR-related comments in the final rule. You may also send your ICR-related comments to OMB's Office of Information and Regulatory Affairs using the interface at www.reginfo.gov/public/do/PRAMain. Find this particular information collection by selecting “Currently under Review— Open for Public Comments” or by using the search function. OMB must receive comments no later than October 16, 2025.

D. Regulatory Flexibility Act (RFA)

I certify that this proposed action would not have a significant economic impact on a substantial number of small entities under the RFA. In making this determination, the EPA concludes that the impact of concern for this proposed rule is any significant adverse economic impact on small entities and that the Agency is certifying that this proposed rule would not have a significant economic impact on a substantial number of small entities because the proposed relieves regulatory burden on the small entities subject to the rule. There are over 5,000 entities reporting across the sectors (including Natural Gas Distribution under subpart W-Petroleum and Natural Gas Systems) where the EPA is proposing to permanently remove requirements and approximately 2,800 entities reporting under subpart W (excluding Natural Gas Distribution) where the EPA is proposing to suspend reporting until 2034, consistent with CAA section 136. The EPA anticipates that some of these would be small entities. For example, the EPA's analysis in past rules has found that small entities were likely subject to the requirements of the GHGRP for sources such as municipal solid waste landfills (subpart HH of Part 98) (78 FR 71904, November 29, 2013) or general stationary fuel combustion (subpart C of Part 98) (81 FR 89188, December 9, 2016). Removing requirements as described in this proposal would relieve burden for all regulated entities, including small entities. We have therefore concluded that this action would relieve regulatory burden for all directly regulated small entities.

E. Unfunded Mandates Reform Act (UMRA)

This action does not contain an unfunded mandate as described in UMRA, 2 U.S.C. 1531-1538, and does not significantly or uniquely affect small governments. This action imposes no enforceable duty on any state, local, or Tribal governments. Requirements for the private sector do not exceed $100 million in any one year (adjusted annually for inflation) or more (in 1995 dollars).

F. Executive Order 13132: Federalism

This proposed rule does not have federalism implications. It would not have substantial direct effects on the states, on the relationship between the national government and the states, or on the distribution of power and responsibilities among the various levels of government. The EPA believes, however, that this proposed rule may be of significant interest to state governments. The EPA is aware that approximately 20 states implement state-level greenhouse gas reporting that, in some cases, incorporate 40 CFR part 98 by reference and/or rely on data collected by and exported from EPA's electronic Greenhouse Gas Reporting Tool (e-GGRT) or other GHGRP-related EPA electronic resources. Significant alteration or removal of these resources may impact the abilities of states to implement their respective clean air programs and regulations. The EPA believes these impacts could be mitigated through the adjustment and/or de-coupling of relevant state regulations from the EPA's and/or the development of EPA-independent state tools to address any state-specific greenhouse gas data collection needs.

G. Executive Order 13175: Consultation and Coordination With Indian Tribal Governments

This action has Tribal implications. However, it would neither impose substantial direct compliance costs on federally recognized Tribal governments, nor preempt Tribal law. In 2023, there were 144 facilities that reported to the GHGRP that were located on Tribal lands. In addition, there are 9 facilities that reported under the GHGRP where Tribal governments were listed as either the owner, operator, or parent company for the facility. Consistent with the EPA Policy on Consultation and Coordination with Indian Tribes, the EPA will engage in consultation with Tribal officials during the development of this action.

H. Executive Order 13045: Protection of Children From Environmental Health Risks and Safety Risks

The EPA interprets Executive Order 13045 as applying only to those regulatory actions that concern environmental health or safety risks that the EPA has reason to believe may disproportionately affect children, per the definition of “covered regulatory action” in section 2-202 of the Executive Order. Therefore, this action is not subject to Executive Order 13045. Since this action does not concern human health, the EPA's Policy on Children's Health also does not apply.

I. Executive Order 13211: Actions That Significantly Affect Energy Supply, Distribution, or Use

This action is not a “significant energy action” because it is not likely to have a significant adverse effect on the supply, distribution or use of energy. As this action removes requirements from regulated entities in the coming years, the EPA anticipates that the proposed action would reduce the reporting burden on regulated industrial facilities that contribute to the nation's energy supply, distribution, or use.

J. National Technology Transfer and Advancement Act (NTTAA)

This rulemaking does not involve technical standards.

K. Determination Under CAA Section 307(d)

Pursuant to CAA section 307(d)(1)(V), the Administrator determines that this action is subject to the provisions of CAA section 307(d). Section 307(d)(1)(V) of the CAA provides that the provisions of CAA section 307(d) apply to “such other actions as the Administrator may determine.”

List of Subjects

40 CFR Part 98

Environmental protection, Administrative practice and procedure, Greenhouse gases, Reporting and recordkeeping requirements.

Lee Zeldin,
Administrator.

For the reasons set forth in the preamble, the Environmental Protection Agency proposes to amend title 40, chapter I, of the Code of Federal Regulations as follows:

PART 98—MANDATORY GREENHOUSE GAS REPORTING

1. The authority citation for part 98 continues to read as follows:

Authority: 42 U.S.C. 7401-7671q.

Subpart A—General Provision

2. Amend § 98.1 by revising paragraphs (a) and (b) to read as follows:

§ 98.1 Purpose and scope.

(a) This part establishes mandatory greenhouse gas (GHG) reporting requirements for owners and operators of certain facilities that directly emit GHGs.

(b) Owners and operators of facilities that are subject to this part must follow the requirements of this subpart and all applicable subparts of this part. If a conflict exists between a provision in subpart A and any other applicable subpart, the requirements of the applicable subpart shall take precedence.

* * * * *

3. Amend § 98.2 by:

a. Revising paragraphs (a) introductory text and (a)(2).

b. Removing and reserving paragraphs (a)(1), (a)(3), (a)(4), (b)(2), (b)(3), (d), (e), (f), and (g).

c. Revising paragraphs (h), (i) introductory text, (i)(3), (i)(5), and (i)(6).

d. Removing and reserving paragraph (i)(4).

The revisions read as follows:

§ 98.2 Who must report?

(a) The GHG reporting requirements and related monitoring, recordkeeping, and reporting requirements of this part apply to the owners and operators of any facility that is located in the United States or under or attached to the Outer Continental Shelf (as defined in 43 U.S.C. 1331) and that meets the requirements of either paragraph (a)(1), (a)(2), or (a)(3) of this section; that meets the requirements of paragraph (a)(4) of this section:

(1) [Reserved]

(2) A facility that contains any source category that is listed in table A-4 to this subpart and that emits 25,000 metric tons CO2e or more per year in combined emissions from all applicable source categories that are listed in table A-4 to this subpart. For these facilities, the annual GHG report must cover all applicable source categories listed in table A-4 to this subpart.

* * * * *

(h) An owner or operator of a facility that does not meet the applicability requirements of paragraph (a) of this section is not subject to this rule. Such owner or operator would become subject to the rule and reporting requirements, if a facility exceeds the applicability requirements of paragraph (a) of this section at a later time pursuant to § 98.3(b)(3). Thus, the owner or operator should reevaluate the applicability to this part (including the revising of any relevant emissions calculations or other calculations) whenever there is any change that could cause a facility to meet the applicability requirements of paragraph (a) of this section. Such changes include but are not limited to process modifications, increases in operating hours, increases in production, changes in fuel or raw material use, addition of equipment, and facility expansion.

(i) Except as provided in this paragraph, once a facility is subject to the requirements of this part, the owner or operator must continue for each year thereafter to comply with all requirements of this part, including the requirement to submit annual GHG reports, even if the facility does not meet the applicability requirements in paragraph (a) of this section in a future year.

* * * * *

(3) If the operations of a facility are changed such that all applicable processes and operations subject to paragraphs (a)(1) through (4) of this section cease to operate, then the owner or operator may discontinue complying with this part for the reporting years following the year in which cessation of such operations occurs, provided that the owner or operator submits a notification to the Administrator that announces the cessation of reporting and certifies to the closure of all applicable processes and operations no later than March 31 of the year following such changes. If one or more processes or operations subject to paragraphs (a)(1) through (4) of this section at a facility cease to operate, but not all applicable processes or operations cease to operate, then the owner or operator is exempt from reporting for any such processes or operations in the reporting years following the reporting year in which cessation of the process or operation occurs, provided that the owner or operator submits a notification to the Administrator that announces the cessation of reporting for the process or operation no later than March 31 following the first reporting year in which the process or operation has ceased for an entire reporting year. Cessation of operations in the context of underground coal mines includes, but is not limited to, abandoning and sealing the facility. This paragraph (i)(3) does not apply to seasonal or other temporary cessation of operations. This paragraph (i)(3) does not apply when there is a change in the owner or operator for facilities in industry segments with a unique definition of facility as defined in § 98.238 of the petroleum and natural gas systems source category (subpart W of this part), unless the changes result in permanent cessation of all applicable processes and operations. The owner or operator must resume reporting for any future calendar year during which any of the GHG-emitting processes or operations resume operation.

(4) [Reserved]

(5) If the operations of a facility are changed such that a process or operation no longer meets the “Definition of Source Category” as specified in an applicable subpart, then the owner or operator may discontinue complying with any such subpart for the reporting years following the year in which change occurs, provided that the owner or operator submits a notification to the Administrator that announces the cessation of reporting for the process or operation no later than March 31 following the first reporting year in which such changes persist for an entire reporting year. The owner or operator must resume complying with this part for the process or operation starting in any future calendar year during which the process or operation meets the “Definition of Source Category” as specified in an applicable subpart.

(6) If an entire facility is merged into another facility that is already reporting GHG data under this part, then the owner or operator may discontinue complying with this part for the facility, provided that the owner or operator submits a notification to the Administrator that announces the discontinuation of reporting and the e-GGRT identification number of the reconstituted facility no later than March 31 of the year following such changes.

* * * * *

4. Amend § 98.3 by:

a. Revising the introductory text and paragraphs (b) introductory text, (b)(2) and (b)(3).

b. Removing and reserving paragraph (b)(1).

c. Adding paragraph (b)(6).

d. Revising paragraph (c)(1) and revising and republishing paragraph (c)(4).

e. Removing and reserving paragraph (c)(5).

f. Revising paragraphs (c)(10) and (c)(11).

g. Removing and reserving paragraphs (c)(12) and (d).

h. Revising paragraphs (h) introductory text, (i) introductory text, and (i)(1)(ii).

i. Removing and reserving paragraph (j).

j. Revising and republishing paragraph (k).

k. Revising paragraph (l) introductory text.

The revisions and addition to read as follows:

§ 98.3 What are the general monitoring, reporting, recordkeeping and verification requirements of this part?

The owner or operator of a facility that is subject to the requirements of this part must submit GHG reports to the Administrator, as specified in this section.

* * * * *

(b) Schedule. The annual GHG report for reporting year 2010 must be submitted no later than September 30, 2011. The annual report for reporting years 2011 and beyond must be submitted no later than March 31 of each calendar year for GHG emissions in the previous calendar year, except as provided in paragraphs (b)(5) and (b)(6) of this section.

(1) [Reserved]

(2) For a new facility that begins operation on or after January 1, 2010, and becomes subject to the rule in the year that it becomes operational, report emissions starting the first operating month and ending on December 31 of that year. Each subsequent annual report must cover emissions for the calendar year, beginning on January 1 and ending on December 31.

(3) For any facility that becomes subject to this rule because of a physical or operational change that is made after January 1, 2010, report emissions for the first calendar year in which the change occurs, beginning with the first month of the change and ending on December 31 of that year. For a facility that becomes subject to this rule solely because of an increase in hours of operation or level of production, the first month of the change is the month in which the increased hours of operation or level of production, if maintained for the remainder of the year, would cause the facility to exceed the applicable threshold. Each subsequent annual report must cover emissions for the calendar year, beginning on January 1 and ending on December 31.

* * * * *

(6) The annual GHG report for reporting year 2025 must be submitted no later than June 10, 2026.

(c) * * *

(1) Facility name, and physical street address of the facility, including the city, State, and zip code. If the facility does not have a physical street address, then the facility must provide the latitude and longitude representing the geographic centroid or center point of facility operations in decimal degree format. This must be provided in a comma-delimited “latitude, longitude” coordinate pair reported in decimal degrees to at least four digits to the right of the decimal point.

* * * * *

(4) For facilities, except as otherwise provided in paragraph (c)(12) of this section, report annual emissions of CO2, CH4, N2O, each fluorinated GHG (as defined in § 98.6), and each fluorinated heat transfer fluid (as defined in § 98.98) as follows.

(i) Annual emissions (excluding biogenic CO2) aggregated for all GHG from all applicable source categories, expressed in metric tons of CO2e calculated using equation A-1 of this subpart. For electronics manufacturing (as defined in § 98.90), starting in reporting year 2012 the CO2e calculation must include each fluorinated heat transfer fluid (as defined in § 98.98) whether or not it is also a fluorinated GHG.

(ii) Annual emissions of biogenic CO2 aggregated for all applicable source categories, expressed in metric tons.

(iii) Annual emissions from each applicable source category, expressed in metric tons of each applicable GHG listed in paragraphs (c)(4)(iii)(A) through (F) of this section.

(A) Biogenic CO2.

(B) CO2 (excluding biogenic CO2).

(C) CH4.

(D) N2O.

(E) [Reserved]

(F) [Reserved]

(G) [Reserved]

(iv) Except as provided in paragraph (c)(4)(vii) of this section, emissions and other data for individual units, processes, activities, and operations as specified in the “Data reporting requirements” section of each applicable subpart of this part.

(v) Indicate (yes or no) whether reported emissions include emissions from a cogeneration unit located at the facility.

(vi) [Reserved]

(vii) [Reserved]

(viii) Applicable source categories means all of the source categories listed in table A-4 to this subpart present at the facility.

* * * * *

(10) NAICS code(s) that apply to the facility.

(i) Primary NAICS code. Report the NAICS code that most accurately describes the facility's primary product/activity/service. The primary product/activity/service is the principal source of revenue for the facility. A facility that has two distinct products/activities/services providing comparable revenue may report a second primary NAICS code.

(ii) Additional NAICS code(s). Report all additional NAICS codes that describe all product(s)/activity(s)/service(s) at the facility that are not related to the principal source of revenue.

(11) Legal name(s) and physical address(es) of the highest-level United States parent company(s) of the owners (or operators) of the facility and the percentage of ownership interest for each listed parent company as of December 31 of the year for which data are being reported according to the following instructions:

(i) If the facility is entirely owned by a single United States company that is not owned by another company, provide that company's legal name and physical address as the United States parent company and report 100 percent ownership.

(ii) If the facility is entirely owned by a single United States company that is, itself, owned by another company (e.g., it is a division or subsidiary of a higher-level company), provide the legal name and physical address of the highest-level company in the ownership hierarchy as the United States parent company and report 100 percent ownership.

(iii) If the facility is owned by more than one United States company (e.g., company A owns 40 percent, company B owns 35 percent, and company C owns 25 percent), provide the legal names and physical addresses of all the highest-level companies with an ownership interest as the United States parent companies, and report the percent ownership of each company.

(iv) If the facility is owned by a joint venture or a cooperative, the joint venture or cooperative is its own United States parent company. Provide the legal name and physical address of the joint venture or cooperative as the United States parent company, and report 100 percent ownership by the joint venture or cooperative.

(v) If the facility is entirely owned by a foreign company, provide the legal name and physical address of the foreign company's highest-level company based in the United States as the United States parent company, and report 100 percent ownership.

(vi) If the facility is partially owned by a foreign company and partially owned by one or more U.S. companies, provide the legal name and physical address of the foreign company's highest-level company based in the United States, along with the legal names and physical addresses of the other U.S. parent companies, and report the percent ownership of each of these companies.

(vii) If the facility is a federally owned facility, report “U.S. Government” and do not report physical address or percent ownership.

(viii) The facility must refer to the reporting instructions of the electronic GHG reporting tool regarding standardized conventions for the naming of a parent company.

* * * * *

(h) Annual GHG report revisions. This paragraph applies to the reporting years for which the owner or operator is required to maintain records for a facility according to the time periods specified in paragraph (g) of this section.

* * * * *

(i) Calibration accuracy requirements. The owner or operator of a facility that is subject to the requirements of this part must meet the applicable flow meter calibration and accuracy requirements of this paragraph (i). The accuracy specifications in this paragraph (i) do not apply where either the use of company records (as defined in § 98.6) or the use of “best available information” is specified in an applicable subpart of this part to quantify fuel usage and/or other parameters. Further, the provisions of this paragraph (i) do not apply to stationary fuel combustion units that use the methodologies in part 75 of this chapter to calculate CO2 mass emissions.

(1) * * *

(ii) For facilities that become subject to this part after April 1, 2010, all flow meters and other measurement devices (if any) that are required by the relevant subpart(s) of this part to provide data for the GHG emissions calculations shall be installed no later than the date on which data collection is required to begin using the measurement device, and the initial calibration(s) required by this paragraph (i) (if any) shall be performed no later than that date.

* * * * *

(k) Revised global warming potentials and special provisions for reporting year 2013 and subsequent reporting years. This paragraph (k) applies to owners or operators of facilities that first become subject to any subpart of part 98 solely due to an amendment to table A-1 to this subpart.

(1) A facility that first becomes subject to part 98 due to a change in the GWP for one or more compounds in table A-1 to this subpart, Global Warming Potentials, is not required to submit an annual GHG report for the reporting year during which the change in GWPs is published in the Federal Register as a final rulemaking.

(2) A facility that was already subject to one or more subparts of part 98 but becomes subject to one or more additional subparts due to a change in the GWP for one or more compounds in table A-1 to this subpart, is not required to include those subparts to which the facility is subject only due to the change in the GWP in the annual GHG report submitted for the reporting year during which the change in GWPs is published in the Federal Register as a final rulemaking.

(3) Starting on January 1 of the year after the year during which the change in GWPs is published in the Federal Register as a final rulemaking, facilities identified in paragraph (k)(1) or (2) of this section must start monitoring and collecting GHG data in compliance with the applicable subparts of part 98 to which the facility is subject due to the change in the GWP for the annual greenhouse gas report for that reporting year, which is due by March 31 of the following calendar year.

(4) A change in the GWP for one or more compounds includes the addition to table A-1 to this subpart of either a chemical-specific or a default GWP that applies to a compound to which no chemical-specific GWP in table A-1 to this subpart previously applied.

(l) Special provision for best available monitoring methods in 2014 and subsequent years. This paragraph (l) applies to owners or operators of facilities that first become subject to any subpart of part 98 due to an amendment to table A-1 to this subpart, Global Warming Potentials.

* * * * *

5. Amend § 98.4 by:

a. Revising and republishing paragraphs (a), (b), (c), (d), (e), (f), (g), (h), and (i).

b. Revising paragraphs (k), (m)(2)(iv), (m)(2)(v)(A), (n) introductory text, (n)(1), (n)(2), (n)(3)(i), and (n)(3)(ii).

The revisions read as follows:

§ 98.4 Authorization and responsibilities of the designated representative.

(a) General. Except as provided under paragraph (f) of this section, each facility that is subject to this part, shall have one and only one designated representative, who shall be responsible for certifying, signing, and submitting GHG emissions reports and any other submissions for such facility respectively to the Administrator under this part. If the facility is required under any other part of title 40 of the Code of Federal Regulations to submit to the Administrator any other emission report that is subject to any requirement in 40 CFR part 75, the same individual shall be the designated representative responsible for certifying, signing, and submitting the GHG emissions reports and all such other emissions reports under this part.

(b) Authorization of a designated representative. The designated representative of the facility shall be an individual selected by an agreement binding on the owners and operators of such facility and shall act in accordance with the certification statement in paragraph (i)(4)(iv) of this section.

(c) Responsibility of the designated representative. Upon receipt by the Administrator of a complete certificate of representation under this section for a facility, the designated representative identified in such certificate of representation shall represent and, by his or her representations, actions, inactions, or submissions, legally bind each owner and operator of such facility in all matters pertaining to this part, notwithstanding any agreement between the designated representative and such owners and operators. The owners and operators shall be bound by any decision or order issued to the designated representative by the Administrator or a court.

(d) Timing. No GHG emissions report or other submissions under this part for a facility will be accepted until the Administrator has received a complete certificate of representation under this section for a designated representative of the facility. Such certificate of representation shall be submitted at least 60 days before the deadline for submission of the facility's initial emission report under this part.

(e) Certification of the GHG emissions report. Each GHG emission report and any other submission under this part for a facility shall be certified, signed, and submitted by the designated representative or any alternate designated representative of the facility in accordance with this section and § 3.10 of this chapter.

(1) Each such submission shall include the following certification statement signed by the designated representative or any alternate designated representative: “I am authorized to make this submission on behalf of the owners and operators of the facility, as applicable, for which the submission is made. I certify under penalty of law that I have personally examined, and am familiar with, the statements and information submitted in this document and all its attachments. Based on my inquiry of those individuals with primary responsibility for obtaining the information, I certify that the statements and information are to the best of my knowledge and belief true, accurate, and complete. I am aware that there are significant penalties for submitting false statements and information or omitting required statements and information, including the possibility of fine or imprisonment.”

(2) The Administrator will accept a GHG emission report or other submission for a facility under this part only if the submission is certified, signed, and submitted in accordance with this section.

(f) Alternate designated representative. A certificate of representation under this section for a facility may designate one alternate designated representative, who shall be an individual selected by an agreement binding on the owners and operators, and may act on behalf of the designated representative, of such facility. The agreement by which the alternate designated representative is selected shall include a procedure for authorizing the alternate designated representative to act in lieu of the designated representative.

(1) Upon receipt by the Administrator of a complete certificate of representation under this section for a facility identifying an alternate designated representative.

(i) The alternate designated representative may act on behalf of the designated representative for such facility.

(ii) Any representation, action, inaction, or submission by the alternate designated representative shall be deemed to be a representation, action, inaction, or submission by the designated representative.

(2) Except in this section, whenever the term “designated representative” is used in this part, the term shall be construed to include the designated representative or any alternate designated representative.

(g) Changing a designated representative or alternate designated representative. The designated representative or alternate designated representative identified in a complete certificate of representation under this section for a facility received by the Administrator may be changed at any time upon receipt by the Administrator of another later signed, complete certificate of representation under this section for the facility. Notwithstanding any such change, all representations, actions, inactions, and submissions by the previous designated representative or the previous alternate designated representative of the facility before the time and date when the Administrator receives such later signed certificate of representation shall be binding on the new designated representative and the owners and operators of the facility.

(h) Changes in owners and operators. Except as provided in paragraph (n) of this section, in the event an owner or operator of the facility is not included in the list of owners and operators in the certificate of representation under this section for the facility, such owner or operator shall be deemed to be subject to and bound by the certificate of representation, the representations, actions, inactions, and submissions of the designated representative and any alternate designated representative of the facility, as if the owner or operator were included in such list. Within 90 days after any change in the owners and operators of the facility (including the addition of a new owner or operator), the designated representative or any alternate designated representative shall submit a certificate of representation that is complete under this section except that such list shall be amended to reflect the change. If the designated representative or alternate designated representative determines at any time that an owner or operator of the facility is not included in such list and such exclusion is not the result of a change in the owners and operators, the designated representative or any alternate designated representative shall submit, within 90 days of making such determination, a certificate of representation that is complete under this section except that such list shall be amended to include such owner or operator.

(i) Certificate of representation. A certificate of representation shall be complete if it includes the following elements in a format prescribed by the Administrator in accordance with this section:

(1) Identification of the facility for which the certificate of representation is submitted.

(2) The name, organization name (company affiliation-employer), address, email address (if any), telephone number, and facsimile transmission number (if any) of the designated representative and any alternate designated representative.

(3) A list of the owners and operators of the facility identified in paragraph (i)(1) of this section, provided that, if the list includes the operators of the facility and the owners with control of the facility, the failure to include any other owners shall not make the certificate of representation incomplete.

(4) The following certification statements by the designated representative and any alternate designated representative:

(i) “I certify that I was selected as the designated representative or alternate designated representative, as applicable, by an agreement binding on the owners and operators of the facility, as applicable.”

(ii) “I certify that I have all the necessary authority to carry out my duties and responsibilities under 40 CFR part 98 on behalf of the owners and operators of the facility, as applicable, and that each such owner and operator shall be fully bound by my representations, actions, inactions, or submissions.”

(iii) “I certify that the owners and operators of the facility, as applicable, shall be bound by any order issued to me by the Administrator or a court regarding the facility.”

(iv) “If there are multiple owners and operators of the facility, as applicable, I certify that I have given a written notice of my selection as the `designated representative' or `alternate designated representative', as applicable, and of the agreement by which I was selected to each owner and operator of the facility.”

(5) The signature of the designated representative and any alternate designated representative and the dates signed.

(6) A list of the subparts that the owners and operators anticipate will be included in the annual GHG report. The list of potentially applicable subparts is required only for an initial certificate of representation that is submitted after January 1, 2018 (i.e., for a facility that previously was not registered under this part). The list of potentially applicable subparts does not need to be revised with revisions to the COR or if the actual applicable subparts change.

* * * * *

(k) Binding nature of the certificate of representation. Once a complete certificate of representation under this section for a facility has been received, the Administrator will rely on the certificate of representation unless and until a later signed, complete certificate of representation under this section for the facility is received by the Administrator.

* * * * *

(m) * * *

(2) * * *

(iv) For each type of electronic submission listed in accordance with paragraph (m)(2)(iii) of this section, the facility for which the electronic submission may be made.

(v) * * *

(A) “I agree that any electronic submission to the Administrator that is by an agent identified in this notice of delegation and of a type listed, and for a facility designated, for such agent in this notice of delegation and that is made when I am a designated representative or alternate designated representative, as applicable, and before this notice of delegation is superseded by another notice of delegation under § 98.4(m)(3) shall be deemed to be an electronic submission certified, signed, and submitted by me.”

* * * * *

(n) Alternative provisions for changes in owners and operators for industry segments with a unique definition of facility as defined in § 98.238. When there is a change to the owner or operator of a facility required to report under the onshore petroleum and natural gas production, onshore petroleum and natural gas gathering and boosting, or onshore natural gas transmission pipeline industry segments of subpart W of this part, or a change to the owner or operator for some emission sources from the facility in one of these industry segments, the provisions specified in paragraphs (n)(1) through (4) of this section apply for the respective type of change in owner or operator.

(1) If the entire facility is acquired by an owner or operator that does not already have a reporting facility in the same industry segment and basin (for onshore petroleum and natural gas production or onshore petroleum and natural gas gathering and boosting), then within 90 days after the change in the owner or operator, the designated representative or any alternate designated representative shall submit a certificate of representation that is complete under this section. If the new owner or operator already had emission sources specified in § 98.232(c), (j), or (m), as applicable, prior to the acquisition in the same basin (for onshore petroleum and natural gas production or onshore petroleum and natural gas gathering and boosting) as the acquired facility but had not previously met the applicability requirements in §§ 98.2(a) and 98.231, then per the applicable definition of facility in § 98.238, the previously owned applicable emission sources must be included in the acquired facility. The new owner or operator and the new designated representative shall be responsible for submitting the annual report for the facility for the entire reporting year beginning with the reporting year in which the acquisition occurred.

(2) If the entire facility is acquired by an owner or operator that already has a reporting facility in the same industry segment and basin (for onshore petroleum and natural gas production or onshore petroleum and natural gas gathering and boosting), the new owner or operator shall merge the acquired facility with their existing facility for purposes of the annual GHG report. The owner or operator shall also follow the provisions of § 98.2(i)(6) to notify EPA that the acquired facility will discontinue reporting and shall provide the e-GGRT identification number of the merged, or reconstituted, facility. The owner or operator of the merged facility shall be responsible for submitting the annual report for the merged facility for the entire reporting year beginning with the reporting year in which the acquisition occurred.

(3) * * *

(i) If the purchasing owner or operator that acquires only some of the emission sources from the existing facility does not already have a reporting facility in the same industry segment and basin (for onshore petroleum and natural gas production or onshore petroleum and natural gas gathering and boosting), the purchasing owner or operator shall begin reporting as a new facility. The new facility must include the acquired emission sources specified in § 98.232(c), (j), or (m), as applicable, and any emission sources the purchasing owner or operator already owned in the same industry segment and basin (for onshore petroleum and natural gas production or onshore petroleum and natural gas gathering and boosting). The designated representative for the new facility must be selected by the purchasing owner or operator according to the schedule and procedure specified in paragraphs (b) through (d) of this section. The purchasing owner or operator shall be responsible for submitting the annual report for the new facility for the entire reporting year beginning with the reporting year in which the acquisition occurred. The purchasing owner or operator shall continue to report under subpart W of this part for the new facility unless and until that facility meets one of the criteria in § 98.2(i).

(ii) If the purchasing owner or operator that acquires only some of the emission sources from the existing facility already has a reporting facility in the same industry segment and basin (for onshore petroleum and natural gas production or onshore petroleum and natural gas gathering and boosting), then per the applicable definition of facility in § 98.238, the purchasing owner or operator must add the acquired emission sources specified in § 98.232(c), (j), or (m), as applicable, to their existing facility for purposes of reporting under subpart W. The purchasing owner or operator shall be responsible for submitting the annual report for the entire facility, including the acquired emission sources, for the entire reporting year beginning with the reporting year in which the acquisition occurred.

* * * * *

6. Amend § 98.5 by revising paragraph (a).

§ 98.5 How is the report submitted?

(a) Each GHG report and certificate of representation for a facility must be submitted electronically in accordance with the requirements of § 98.4 and in a format specified by the Administrator.

* * * * *

7. Amend § 98.6 by:

a. Removing the definitions for “Acid Rain Program”, “Agricultural by-products”, “Air-injected flare”, “Alkali bypass”, “Anaerobic digester”, “Anaerobic lagoon”, “Anode effect”, “Anode Effect Minutes per Cell Day (24 Hours)”, “Asphalt”, “Aviation Gasoline”, “B0”, “Basic oxygen furnace”, “Blast furnace”, “Bulk”, “By-product coke oven battery”, “Calcination”, “Carbon dioxide production well”, “Carbon dioxide production well facility”, “Carbon dioxide stream”, “Carbon share”, “Carbonate”, “Carbonate-based mineral”, “Carbonate-based mineral mass fraction”, “Carbonate-based raw material”, “Catalytic cracking unit”, “CBOB Summer (conventional blendstock for oxygenate blending)”, “CBOB Winter (conventional blendstock for oxygenate blending)”, “Cement kiln dust”, “Chemical recovery combustion unit”, “Chemical recovery furnace”, “Chloride process”, “Coal”, “COD”, “Cogeneration unit”, “Coke burn-off”, “Cokemaking”, “Commercial applications”, “Container glass”, “Continuous glass melting furnace”, “Conventional Summer”, “Conventional Winter”, “Cyclic”, “Daily spread”, “Decarburization vessel”, “Deep bedding systems”, “Degasification system”, “Degradable organic carbon (DOC)”, “Delayed coking unit”, “Destruction”, “Destruction device”, “DIPE (diisopropyl ether, (CH3)2CHOCH(CH3)2)”, “Direct liquefaction”, “Direct reduction furnace”, “Dry lot”, “Electric arc furnace (EAF)”, “Electric arc furnace steelmaking”, “Electrothermic furnace”, “Experimental furnace”, “Exporter”, “Feed”, “Flat glass”, “Furnace slag”, “Glass melting furnace”, “Glass”, “Kiln”, “Landfill”, “Landfill gas”, “Liberated”, “Lime”, “Makeup chemicals”, “Manure composting”, “Methane correction factor”, “Midgrade gasoline”, “Municipal solid waste landfill or MSW landfill”, “Municipal solid waste or MSW”, “Municipal wastewater treatment plant”, “Nitric acid production line”, and “Nitrogen excreted”.

b. Revising the definitions of “North American Industry Classification System (NAICS) code(s)”, “Operator”, and “Owner”.

c. Removing the definitions of “Pasture/Range/Paddock”, “Petrochemical”, “Petrochemical feedstocks”, “Petroleum coke”, “Pit storage below animal confinement (deep pits)”, “Poultry manure with litter”, “Poultry manure without litter”, “Premium grade gasoline”, “Pushing”, “Raw mill”, “RBOB-Summer”, “RBOB-Winter”, “Regular grade gasoline”, “Rotary lime kiln”, “SF6”, “Silicon carbide”, “Spent liquor solids”, “Spent pulping liquor”, “Sulfur recovery plant”, “Supplier”, “Taconite iron ore processing”, “TAME”, “Transform”, “Transhipment”, and “Trona”.

d. Revising the definition of “United States parent company(s)”.

e. Removing the definitions of “Ventilation hole”, “Ventilation system”, “Volatile solids”, “Wood residuals”, “Wool fiberglass”, “Working capacity”, and “Zinc smelters”.

The revisions read as follows:

§ 98.6 Definitions.

* * * * *

North American Industry Classification System (NAICS) code(s) means the six-digit code(s) that represents the product(s)/activity(s)/service(s) at a facility as listed in the Federal Register and defined in “North American Industrial Classification System Manual 2007,” available from the U.S. Department of Commerce, National Technical Information Service, Alexandria, VA 22312, phone (703) 605-6000 or (800) 553-6847. http://www.census.gov/eos/www/naics/.

* * * * *

Operator means any person who operates or supervises a facility.

* * * * *

Owner means any person who has legal or equitable title to, has a leasehold interest in, or control of a facility, except a person whose legal or equitable title to or leasehold interest in the facility arises solely because the person is a limited partner in a partnership that has legal or equitable title to, has a leasehold interest in, or control of the facility shall not be considered an “owner” of the facility.

* * * * *

United States parent company(s) means the highest-level United States company(s) with an ownership interest in the facility as of December 31 of the year for which data are being reported.

* * * * *

8. Remove and reserve table A-3 to Subpart A of Part 98.

9. Amend table A-4 to Subpart A of Part 98 to read as follows:

Table A-4 to Subpart A of Part 98—Source Category List ᵃ for § 98.2(a)(2)
Source Categories ᵃ Applicable in Reporting Year 2034 and Future Years.
Petroleum and Natural Gas Systems (subpart W).
ᵃ Source categories are defined in each applicable subpart.

10. Remove and reserve table A-5 to Subpart A of Part 98.

Subpart C—[Removed and Reserved]

11. Remove and reserve subpart C, consisting of §§ 98.30 through 98.38 and tables C-1 and C-2 to subpart C of Part 98.

Subpart D—[Removed and Reserved]

12. Remove and reserve subpart D, consisting of §§ 98.40 through 98.48.

Subpart E—[Removed and Reserved]

13. Remove and reserve subpart E, consisting of §§ 98.50 through 98.58.

Subpart F—[Removed and Reserved]

14. Remove and reserve subpart F, consisting of §§ 98.60 through 98.68 and tables F-1 and F-2 to subpart F of Part 98.

Subpart G—[Removed and Reserved]

15. Remove and reserve subpart G, consisting of §§ 98.70 through 98.78.

Subpart H—[Removed and Reserved]

16. Remove and reserve subpart H, consisting of §§ 98.80 through 98.88.

Subpart I—[Removed and Reserved]

17. Remove and reserve subpart I, consisting of §§ 98.90 through 98.98, tables I-1 through I-21 to Subpart I of Part 98, and Appendix A to subpart I of Part 98.

Subpart K—[Removed and Reserved]

18. Remove and reserve subpart K, consisting of §§ 98.110 through 98.118 and table K-1 to subpart K of Part 98.

Subpart L—[Removed and Reserved]

19. Remove and reserve subpart L, consisting of §§ 98.120 through 98.128, table L-1 to Part 98, and Appendix A to subpart L of Part 98.

Subpart N—[Removed and Reserved]

20. Remove and reserve subpart N, consisting of §§ 98.140 through 98.148 and table N-1 to subpart N of Part 98.

Subpart O—[Removed and Reserved]

21. Remove and reserve subpart O, consisting of §§ 98.150 through 98.158 and table O-1 to subpart O of Part 98.

Subpart P—[Removed and Reserved]

22. Remove and reserve subpart P, consisting of §§ 98.160 through 98.168.

Subpart Q—[Removed and Reserved]

23. Remove and reserve subpart Q, consisting of §§ 98.170 through 98.178.

Subpart R—[Removed and Reserved]

24. Remove and reserve subpart R, consisting of §§ 98.180 through 98.188.

Subpart S—[Removed and Reserved]

25. Remove and reserve subpart S, consisting of §§ 98.190 through 98.198 and table S-1 to subpart S of Part 98.

Subpart T—[Removed and Reserved]

26. Remove and reserve subpart T, consisting of §§ 98.200 through 98.208.

Subpart U—[Removed and Reserved]

27. Remove and reserve subpart U, consisting of §§ 98.210 through 98.218 and table U-1 to subpart U of Part 98.

Subpart V—[Removed and Reserved]

28. Remove and reserve subpart V, consisting of §§ 98.220 through 98.228.

Subpart W—Petroleum and Natural Gas Systems

29. Amend § 98.230 by removing and reserving paragraph (a)(8).

30. Amend § 98.231 by removing and reserving paragraph (a)(2).

31. Amend § 98.232 by removing and reserving paragraphs (i) and (k).

32. Amend § 98.233 by:

a. Revising paragraphs (a)(2)(ii) introductory text, (a)(2)(ix) introductory text, (a)(4) introductory text, (i) introductory text, (i)(1), (i)(2)(i), and (i)(2)(iv)(B);

b. Removing and reserving paragraphs (q)(1)(ii), (q)(1)(vii)(G), and (q)(1)(viii);

c. Revising paragraph (q)(2);

d. Removing and reserving paragraphs (q)(2)(x) and (q)(2)(xi);

e. Removing paragraph (q)(3)(viii);

f. Revising paragraph (r);

g. Removing and reserving paragraph (r)(6);

h. Revising paragraph (u)(2) introductory text;

i. Removing paragraph (u)(2)(vii); and

j. Revising paragraph (z)(5).

The revisions and additions read as follows:

§ 98.233 Calculating GHG emissions.

(a) * * *

(2) * * *

(ii) For facilities in the onshore natural gas processing, onshore natural gas transmission compression, or underground natural gas storage industry segments electing to use this Calculation Method 2, you must measure all natural gas pneumatic devices vented directly to the atmosphere at your facility each year or, if your facility has 26 or more pneumatic devices, over multiple years, not to exceed the number of years as specified in paragraphs (a)(2)(ii)(A) through (D) of this section. If you elect to measure your pneumatic devices over multiple years, you must measure approximately the same number of devices each year. You must measure and calculate emissions for natural gas pneumatic devices at your facility according to the provisions in paragraphs (a)(2)(iii) through (ix), as applicable.

* * * * *

(ix) For facilities in the onshore natural gas processing, onshore natural gas transmission compression, or underground natural gas storage industry segments, if you chose to conduct natural gas pneumatic device measurements over multiple years, “n,” according to paragraph (a)(2)(ii) of this section, then you must calculate the emissions from all pneumatic devices at your facility as specified in paragraph (a)(2)(ix)(A) through (E) of this section.

* * * * *

(4) Calculation Method 4. For well-pads in the onshore petroleum and natural gas production industry segment, gathering and boosting sites in the onshore petroleum and natural gas gathering and boosting industry segments, or for facilities in the onshore natural gas processing, onshore natural gas transmission compression, or underground natural gas storage industry segments, you may elect to calculate CH4 and CO2 emissions from your natural gas pneumatic devices that are vented directly to the atmosphere at your site using the methods specified in paragraphs (a)(4)(i) and (ii) of this section except those that are measured according to paragraphs (a)(1) through (3) of this section. You must exclude the counts of devices measured according to paragraph (a)(1) of this section from the counts of devices to be monitored or for which emissions are calculated according to the requirements in this paragraph (a)(4). You may not use this Calculation Method 4 for those devices for which you elected to measure emissions according to paragraph (a)(1), (2), or (3) of this section.

* * * * *

(i) Blowdown vent stacks. Calculate CO2 and CH4 blowdown vent stack emissions from the depressurization of equipment to reduce system pressure for planned or emergency shutdowns resulting from human intervention or to take equipment out of service for maintenance as specified in either paragraph (i)(2) or (3) of this section. You may use the method in paragraph (i)(2) of this section for some blowdown vent stacks at your facility and the method in paragraph (i)(3) of this section for other blowdown vent stacks at your facility. Blowdowns of equipment with a unique physical volume of less than 50 cubic feet as determined in paragraph (i)(1) of this section are not subject to the requirements in paragraphs (i)(2) through (4) of this section. The requirements in this paragraph (i) do not apply to blowdown vent stack emissions from depressurizing to a flare, over-pressure relief, operating pressure control venting, blowdown of non-GHG gases, and desiccant dehydrator blowdown venting before reloading. If emissions from blowdown vent stacks are routed to a flare, you must calculate CH4, CO2, and N2O annual emissions as specified in paragraph (n) of this section and report emissions from the flare as specified in § 98.236(n).

(1) Method for calculating unique physical volumes. You must calculate each unique physical volume (including pipelines, compressor case or cylinders, manifolds, suction bottles, discharge bottles, and vessels) between isolation valves, in cubic feet, by using engineering estimates based on best available data.

* * * * *

(2) * * *

(i) Calculate the total annual natural gas emissions from each unique physical volume that is blown down using either equation W-14A or W-14B to this section.

Where:

Es,n = Annual natural gas emissions at standard conditions from each unique physical volume that is blown down, in cubic feet.

N = Number of occurrences of blowdowns for each unique physical volume in the calendar year.

V = Unique physical volume, in cubic feet, as calculated in paragraph (i)(1) of this section.

C = Purge factor is 1 if the unique physical volume is not purged, or 0 if the unique physical volume is purged using non-GHG gases.

Ts = Temperature at standard conditions (60 °F).

Ta = Temperature at actual conditions in the unique physical volume (°F). For emergency blowdowns at onshore petroleum and natural gas production, onshore petroleum and natural gas gathering and boosting facilities, and onshore natural gas transmission pipeline facilities, engineering estimates based on best available information may be used to determine the temperature.

Ps = Absolute pressure at standard conditions (14.7 psia).

Pa = Absolute pressure at actual conditions in the unique physical volume (psia). For emergency blowdowns at onshore petroleum and natural gas production, onshore petroleum and natural gas gathering and boosting facilities, and onshore natural gas transmission pipeline facilities, engineering estimates based on best available information may be used to determine the pressure.

Za = Compressibility factor at actual conditions for natural gas. You may use either a default compressibility factor of 1, or a site-specific compressibility factor based on actual temperature and pressure conditions.

Where:

Es,n = Annual natural gas emissions at standard conditions from each unique physical volume that is blown down, in cubic feet.

p = Individual occurrence of blowdown for the same unique physical volume.

N = Number of occurrences of blowdowns for each unique physical volume in the calendar year.

Vp = Unique physical volume, in cubic feet, for each blowdown “p.”

Ts = Temperature at standard conditions (60 °F).

Ta,p = Temperature at actual conditions in the unique physical volume (°F) for each blowdown “p”. For emergency blowdowns at onshore petroleum and natural gas production, onshore petroleum and natural gas gathering and boosting facilities, and onshore natural gas transmission pipeline facilities, engineering estimates based on best available information may be used to determine the temperature.

Ps = Absolute pressure at standard conditions (14.7 psia).

Pa,b,p = Absolute pressure at actual conditions in the unique physical volume (psia) at the beginning of the blowdown “p”. For emergency blowdowns at onshore petroleum and natural gas production, onshore petroleum and natural gas gathering and boosting facilities, and onshore natural gas transmission pipeline facilities, engineering estimates based on best available information may be used to determine the pressure at the beginning of the blowdown.

Pa,e,p = Absolute pressure at actual conditions in the unique physical volume (psia) at the end of the blowdown “p”; 0 if blowdown volume is purged using non-GHG gases. For emergency blowdowns at onshore petroleum and natural gas production, onshore petroleum and natural gas gathering and boosting facilities, and onshore natural gas transmission pipeline facilities, engineering estimates based on best available information may be used to determine the pressure at the end of the blowdown.

Za = Compressibility at actual conditions for natural gas. You may use either a default compressibility factor of 1, or a site-specific compressibility factor based on actual temperature and pressure conditions.

* * * * *

(iv) * * *

(B) For the onshore natural gas transmission pipeline industry segment, pipeline segments or event types must be grouped into the following eight categories: Pipeline integrity work (e.g., the preparation work of modifying facilities, ongoing assessments, maintenance or mitigation), traditional operations or pipeline maintenance, equipment replacement or repair (e.g., valves), pipe abandonment, new construction or modification of pipelines including commissioning and change of service, operational precaution during activities (e.g. excavation near pipelines), emergency shutdowns including pipeline incidents as defined in 49 CFR 191.3, and all other pipeline segments with a physical volume greater than or equal to 50 cubic feet. If a blowdown event resulted in emissions from multiple categories and the emissions cannot be apportioned to the different categories, then categorize the blowdown event in the category that represented the largest portion of the emissions for the blowdown event.

* * * * *

(q) * * *

(2) Calculation Method 1: Leaker emission factor calculation methodology. If you elect not to measure leaks according to Calculation Method 2 as specified in paragraph (q)(3) of this section, you must use this Calculation Method 1 for all components included in a complete leak survey. For industry segments listed in § 98.230(a)(2) through (10), if equipment leaks are detected during surveys required or elected for components listed in paragraphs (q)(1)(i) through (vi) of this section, then you must calculate equipment leak emissions per component type per reporting facility, well-pad site, or gathering and boosting site, as applicable, using equation W-30 to this section and the requirements specified in paragraphs (q)(2)(i) through (x) and (xii) of this section.

Where:

Es,p,i = Annual total volumetric emissions of GHGi from specific component type “p” (in accordance with paragraphs (q)(1)(i) through (vi) of this section) in standard (“s”) cubic feet, as specified in paragraphs (q)(2)(ii) through (x) and (xii) of this section.

xp = Total number of specific component type “p” detected as leaking in any leak survey during the year. A component found leaking in two or more surveys during the year is counted as one leaking component.

EFs,p = Leaker emission factor as specified in paragraphs (q)(2)(iii) through (x) and (xii) of this section.

k = Factor to adjust for undetected leaks by respective leak detection method, where k equals 1.25 for the methods in § 98.234(a)(1), (3) and (5); k equals 1.55 for the method in § 98.234(a)(2)(i); and k equals 1.27 for the method in § 98.234(a)(2)(ii).

GHGi = For onshore petroleum and natural gas production facilities and onshore petroleum and natural gas gathering and boosting facilities, concentration of GHGi, CH4 or CO2, in produced natural gas as defined in paragraph (u)(2) of this section; for onshore natural gas processing facilities, concentration of GHGi, CH4 or CO2, in the total hydrocarbon of the feed natural gas; for onshore natural gas transmission compression and underground natural gas storage, GHGi equals 0.975 for CH4 and 1.1 × 10⁻² for CO2 or concentration of GHGi, CH4 or CO2, in the total hydrocarbon of the feed natural gas; for LNG storage and LNG import and export equipment, GHGi equals 1 for CH4 and 0 for CO2; and for onshore natural gas transmission pipeline, GHGi equals 1 for CH4 and 1.1 × 10⁻² for CO2.

Tp,z = The total time the surveyed component “z,” component type “p,” was assumed to be leaking and operational, in hours. If one leak detection survey is conducted in the calendar year, assume the component was leaking for the entire calendar year. If multiple leak detection surveys are conducted in the calendar year, assume a component found leaking in the first survey was leaking since the beginning of the year until the date of the survey; assume a component found leaking in the last survey of the year was leaking from the preceding survey through the end of the year; assume a component found leaking in a survey between the first and last surveys of the year was leaking since the preceding survey until the date of the survey; and sum times for all leaking periods. For each leaking component, account for time the component was not operational (i.e., not operating under pressure) using an engineering estimate based on best available data.

* * * * *

(r) Equipment leaks by population count. This paragraph (r) applies to emissions sources listed in § 98.232(c)(21)(ii), (f)(7), (g)(5), (h)(6), (j)(10)(ii), (m)(3)(i), and (m)(4)(i) if you are not required to comply with paragraph (q) of this section and if you do not elect to comply with paragraph (q) of this section for these components in lieu of this paragraph (r). This paragraph (r) also applies to emission sources listed in § 98.232(j)(11) and (m)(5). To be subject to the requirements of this paragraph (r), the listed emissions sources also must contact streams with gas content greater than 10 percent CH4 plus CO2 by weight. Emissions sources that contact streams with gas content less than or equal to 10 percent CH4 plus CO2 by weight are exempt from the requirements of this paragraph (r) and do not need to be reported. Tubing systems equal to or less than one half inch diameter are exempt from the requirements of this paragraph (r) and do not need to be reported. Equipment leak components in vacuum service are exempt from the survey and emission estimation requirements of this paragraph (r) and only the count of these equipment must be reported. You must calculate emissions from all emission sources listed in this paragraph (r) using equation W-32A to this section.

Where:

Es,e,i = Annual volumetric emissions of GHGi from the emission source type in standard cubic feet. The emission source type may be a major equipment (e.g., wellhead, separator), component (e.g., connector, open-ended line), gathering pipeline, transmission company interconnect metering-regulating station, farm tap and/or direct sale metering-regulating station, or transmission pipeline.

Counte = Total number of the emission source type at the facility. Onshore petroleum and natural gas production facilities and onshore petroleum and natural gas gathering and boosting facilities must count each major equipment piece listed in table W-1 to this subpart. Onshore petroleum and natural gas gathering and boosting facilities must also count the miles of gathering pipelines by material type (protected steel, unprotected steel, plastic, or cast iron). Underground natural gas storage facilities must count each component listed in table W-3 to this subpart. LNG storage facilities must count the number of vapor recovery compressors. LNG import and export facilities must count the number of vapor recovery compressors. Onshore natural gas transmission pipeline facilities must count the following, as listed in table W-5 to this subpart: (1) Miles of transmission pipelines by material type; (2) number of transmission company interconnect metering-regulating stations; and (3) number of farm tap and/or direct sale metering-regulating stations.

EFs,e = Population emission factor for the specific emission source type, as specified in paragraphs (r)(2) through (7) of this section.

GHGi = For onshore petroleum and natural gas production facilities and onshore petroleum and natural gas gathering and boosting facilities, concentration of GHGi, CH4 or CO2, in produced natural gas as defined in paragraph (u)(2) of this section; for onshore natural gas transmission compression and underground natural gas storage, GHGi equals 0.975 for CH4 and 1.1 × 10⁻² for CO2 or concentration of GHGi, CH4 or CO2, in the total hydrocarbon of the feed natural gas; for LNG storage and LNG import and export equipment, GHGi equals 1 for CH4 and 0 for CO2; and for onshore natural gas transmission pipeline, GHGi equals 1 for CH4 and 1.1 × 10⁻² CO2.

Te = Average estimated time that each emission source type associated with the equipment leak emission was operational in the calendar year, in hours, using engineering estimate based on best available data.

* * * * *

(u) * * *

(2) For equation W-35 to this section, the mole fraction, Mi, shall be the annual average mole fraction for each sub-basin category or facility, as specified in paragraphs (u)(2)(i) through (vi) of this section.

* * * * *

(z) * * *

(5) Emissions from fuel combusted in stationary or portable equipment at onshore petroleum and natural gas production facilities and at onshore petroleum and natural gas gathering and boosting facilities that are calculated according to the procedures in either paragraph (z)(1)(ii) or (z)(2)(ii) of this section must be reported according to the requirements specified in § 98.236(z) rather than the reporting requirements specified in subpart C of this part.

* * * * *

33. Amend § 98.236 by:

a. Removing and reserving paragraph (a)(8);

b. Revising paragraphs (b)(4)(ii) introductory text, (i)(1) introductory text, (i)(1)(ii), and (q) introductory text;

c. Removing and reserving paragraph (q)(1)(iii);

d. Revising paragraph (q)(1)(iv) introductory text and the first sentence of paragraph (q)(2) introductory text;

e. Removing paragraph (q)(3);

f. Removing and reserving paragraph (r)(2); and

g. Revising paragraph (z) introductory text.

The revisions and additions read as follows:

§ 98.236 Data reporting requirements.

* * * * *

(b) * * *

(4) * * *

(ii) For onshore natural gas processing facilities, onshore natural gas transmission compression facilities, and underground natural gas storage facilities:

* * * * *

(i) * * *

(1) Report by equipment or event type. If you calculated emissions from blowdown vent stacks by the seven categories listed in § 98.233(i)(2)(iv)(A) for onshore petroleum and natural gas production, onshore natural gas processing, onshore natural gas transmission compression, underground natural gas storage, LNG storage, LNG import and export equipment, or onshore petroleum and natural gas gathering and boosting industry segments, then you must report the information specified in paragraphs (i)(1)(i) through (v) of this section, as applicable. If a blowdown event resulted in emissions from multiple equipment or event types, and the emissions cannot be apportioned to the different equipment or event types, then you may report the information in paragraphs (i)(1)(ii) through (v) of this section for the equipment or event type that represented the largest portion of the emissions for the blowdown event. For the onshore petroleum and natural gas production and onshore petroleum and natural gas gathering and boosting industry segments, if a blowdown event is not directly associated with a specific well-pad site or gathering and boosting site (e.g., a mid-field pipeline blowdown) or could be associated with multiple well-pad or gathering and boosting sites, then you may report the information in paragraphs (i)(1)(i) through (v) of this section for either the nearest well-pad site or gathering and boosting site upstream from the blowdown event or the well-pad site or gathering and boosting site that represented the largest portion of the emissions for the blowdown event, as appropriate. If you calculated emissions from blowdown vent stacks by the eight categories listed in § 98.233(i)(2)(iv)(B) for the onshore natural gas transmission pipeline industry segment, then you must report the information specified in paragraphs (i)(1)(ii) through (v) of this section, as applicable. If a blowdown event resulted in emissions from multiple equipment or event types, and the emissions cannot be apportioned to the different equipment or event types, then you may report the information in paragraphs (i)(1)(ii) through (v) of this section for the equipment or event type that represented the largest portion of the emissions for the blowdown event.

* * * * *

(ii) Equipment or event type. For the onshore petroleum and natural gas production, onshore natural gas processing, onshore natural gas transmission compression, underground natural gas storage, LNG storage, LNG import and export equipment, or onshore petroleum and natural gas gathering and boosting industry segments, use the seven categories listed in § 98.233(i)(2)(iv)(A). For the onshore natural gas transmission pipeline industry segment, use the eight categories listed in § 98.233(i)(2)(iv)(B).

* * * * *

(q) Equipment leak surveys. For any components subject to or complying with the requirements of § 98.233(q), you must report the information specified in paragraphs (q)(1) and (2) of this section. You must report the information specified in paragraphs (q)(1) and (2) of this section, as applicable, for each well-pad site (for onshore production), gathering and boosting site (for onshore petroleum and natural gas gathering and boosting), or facility (for all other applicable industry segments).

* * * * *

(1) * * *

(iv) Except for onshore natural gas transmission pipeline facilities, indicate whether any of the leak detection surveys used in calculating emissions per § 98.233(q)(2) were conducted for compliance with any of the standards in paragraphs (q)(1)(iv)(A) through (E) of this section. Report the indication per well-pad site, gathering and boosting site, or facility, not per component type, as applicable.

* * * * *

(2) You must indicate whether your facility contains any of the component types subject to or complying with § 98.233(q) that are listed in § 98.232(c)(21), (d)(7), (e)(7) or (8), (f)(5) through (8), (g)(4), (g)(6) or (7), (h)(5), (h)(7) or (8), (j)(10), (m)(3)(ii) or (m)(4)(ii) for your facility's industry segment.

* * * * *

(z) Combustion equipment. If your facility is required by § 98.232(c)(22) or (j)(12) to report emissions from combustion equipment, then you must indicate whether your facility has any combustion units subject to reporting according to paragraph (a)(1)(xx) or (a)(9)(xiii) of this section. If your facility contains any combustion units subject to reporting according to paragraph (a)(1)(xx) or (a)(9)(xiii) of this section, then you must report the information specified in paragraphs (z)(1) and (2) of this section, as applicable. You must report the information specified in paragraphs (z)(1) and (2) of this section, as applicable, for each well-pad site (for onshore petroleum and natural gas production) or gathering and boosting site (for onshore petroleum and natural gas gathering and boosting).

34. Amend § 98.238 by:

a. Removing the definitions “Facility with respect to natural gas distribution for purposes of reporting under this subpart and for the corresponding subpart A requirements” and “Meter/regulator run”;

b. Revising the definition “Routed to combustion”; and

c. Removing the definition “Transmission distribution (T-D) transfer station”.

The revisions read as follows:

§ 98.238 Definitions.

* * * * *

Routed to combustion means, for onshore petroleum and natural gas production facilities and onshore petroleum and natural gas gathering and boosting facilities, that emissions are routed to stationary or portable fuel combustion equipment specified in § 98.232(c)(22) or (j)(12), as applicable.

* * * * *

35. Revising table W-1 to subpart W of Part 98 to read as follows:

Table W-1 to Subpart W of Part 98—Default Whole Gas Population Emission Factors
Industry segment | Source type/component | Emission factor (scf whole gas/hour/unit)
Population Emission Factors—Pneumatic Device Vents and Pneumatic Pumps, Gas Service ¹
Onshore petroleum and natural gas production, Onshore petroleum and natural gas gathering and boosting | Continuous Low Bleed Pneumatic Device Vents ² Continuous High Bleed Pneumatic Device Vents ² | 6.8 21
| Intermittent Bleed Pneumatic Device Vents ² | 8.8
| Pneumatic Pumps ³ | 13.3
Onshore natural gas processing, Onshore natural gas transmission compression, Underground natural gas storage | Continuous Low Bleed Pneumatic Device Vents ² Continuous High Bleed Pneumatic Device Vents ² Intermittent Bleed Pneumatic Device Vents ² | 6.8 30 2.3
Population Emission Factors—Major Equipment, Gas Service ¹
Onshore petroleum and natural gas production, Onshore petroleum and natural gas gathering and boosting | Wellhead Separator Meters/Piping Compressor Dehydrator Heater | 8.87 9.65 7.04 13.8 8.09 5.22
| Storage Vessel | 1.83
Population Emission Factors—Major Equipment, Crude Service
Onshore petroleum and natural gas production | Wellhead | 4.13
| Separator | 4.77
| Meters/Piping | 12.4
| Compressor | 13.8
| Dehydrator | 8.09
| Heater | 3.2
| Storage Vessel | 1.91
Population Emission Factors—Gathering Pipelines, by Material Type ⁴
Onshore petroleum and natural gas gathering and boosting | Protected Steel Unprotected Steel Plastic Composite Cast Iron | 0.93 8.2 0.28 8.4
¹ For multi-phase flow that includes gas, use the gas service emission factors.
² Emission factor is in units of “scf whole gas/hour/device.”
³ Emission factor is in units of “scf whole gas/hour/pump.”
⁴ Emission factors are in units of “scf whole gas/hour/mile of pipeline.”

36. Revising table W-5 to subpart W of Part 98 to read as follows:

Table W-5 to Subpart W of Part 98—Default Methane Population Emission Factors
Industry segment | Source type/component | Emission factor (scf methane/hour/ component)
Population Emission Factors—LNG Storage Compressor, Gas Service
LNG storage, LNG import and export equipment | Vapor Recovery Compressor ¹ | 4.17
Population Emission Factors—Interconnect, Direct Sale, or Farm Tap Stations ² ³
Onshore natural gas transmission pipeline | Transmission Company Interconnect M&R Station | 166
| Direct Sale or Farm Tap Station | 1.3
Population Emission Factors—Transmission Pipelines, Gas Service ⁴
Onshore natural gas transmission pipeline | Unprotected Steel | 0.74
| Protected Steel | 0.041
| Plastic | 0.061
| Cast Iron | 27
¹ Emission Factor is in units of “scf methane/hour/compressor.”
² Excluding customer meters.
³ Emission Factor is in units of “scf methane/hour/station.”
⁴ Emission Factor is in units of “scf methane/hour/mile.”

37. Revising table W-6 to subpart W of Part 98 to read as follows:

Table W-6 to Subpart W of Part 98—Default Methane Leaker Emission Factors
Equipment components | Emission factor (scf methane/hour/component): If you survey using Method 21 as specified in § 98.234(a)(2)(i) | Emission factor (scf methane/hour/component): If you survey using Method 21 as specified in § 98.234(a)(2)(ii) | Emission factor (scf methane/hour/component): If you survey using any of the methods in § 98.234(a)(1), (3), or (5)
Leaker Emission Factors—LNG Storage and LNG Import and Export Equipment—Storage Components and Terminals Components, LNG Service
Valve | 1.19 | 0.23 | 1.94
Pump Seal | 4.00 | 0.73 | 6.54
Connector | 0.34 | 0.11 | 0.56
Other ¹ | 1.77 | 0.99 | 2.9
Leaker Emission Factors—LNG Storage and LNG Import and Export Equipment—Storage Components and Terminals Components, Gas Service
Valve ² | 14.84 | 9.51 | 24.2
Connector | 5.59 | 3.58 | 9.13
Open-Ended Line | 17.27 | 11.07 | 28.2
Pressure Relief Valve | 39.66 | 25.42 | 64.8
Meter and Instrument | 19.33 | 12.39 | 31.6
Other ³ | 4.1 | 2.63 | 6.70
¹ “Other” equipment type for components in LNG service should be applied for any equipment type other than connectors, pumps, or valves.
² Valves include control valves, block valves and regulator valves.
³ “Other” equipment type for components in gas service should be applied for any equipment type other than valves, connectors, flanges, open-ended lines, pressure relief valves, and meters and instruments, as specified in § 98.232(g)(6) and (7) and § 98.232(h)(7) and (8).

Subpart X—[Removed and Reserved]

38. Remove and reserve subpart X, consisting of §§ 98.240 through 98.248.

Subpart Y—[Removed and Reserved]

39. Remove and reserve subpart Y, consisting of §§ 98.250 through 98.258.

Subpart Z—[Removed and Reserved]

40. Remove and reserve subpart Z, consisting of §§ 98.260 through 98.268 and table Z-1 to subpart Z of Part 98.

Subpart AA—[Removed and Reserved]

41. Remove and reserve subpart AA, consisting of §§ 98.270 through 98.278 and tables AA-1 and AA-2 to subpart AA of Part 98.

Subpart BB—[Removed and Reserved]

42. Remove and reserve subpart BB, consisting of §§ 98.280 through 98.288.

Subpart CC—[Removed and Reserved]

43. Remove and reserve subpart CC consisting of §§ 98.290 through 98.298.

Subpart DD—[Removed and Reserved]

44. Remove and reserve subpart DD, consisting of §§ 98.300 through 98.308.

Subpart EE—[Removed and Reserved]

45. Remove and reserve subpart EE, consisting of §§ 98.310 through 98.318.

Subpart FF—[Removed and Reserved]

46. Remove and reserve subpart FF, consisting of §§ 98.320 through 98.328.

Subpart GG—[Removed and Reserved]

47. Remove and reserve subpart GG, consisting of §§ 98.330 through 98.338.

Subpart HH—[Removed and Reserved]

48. Remove and reserve subpart HH, consisting of §§ 98.340 through 98.348 and tables HH-1 through HH-4 to subpart HH of Part 98.

Subpart II—[Removed and Reserved]

49. Remove and reserve subpart II, consisting of §§ 98.350 through 98.358 and tables II-1 and II-2 to subpart II of Part 98.

Subpart JJ—[Removed and Reserved]

50. Remove and reserve subpart JJ, consisting of §§ 98.360 through 98.368 and tables JJ-1 through JJ-7 to subpart JJ of Part 98.

Subpart LL—[Removed and Reserved]

51. Remove and reserve subpart LL, consisting of §§ 98.380 through 98.388.

Subpart MM—[Removed and Reserved]

52. Remove and reserve subpart MM, consisting of §§ 98.390 through 98.398 and tables MM-1 and MM-2 to subpart MM of Part 98.

Subpart NN—[Removed and Reserved]

53. Remove and reserve subpart NN, consisting of §§ 98.400 through 98.408 and tables NN-1 and NN-2 to subpart NN of Part 98.

Subpart OO—[Removed and Reserved]

54. Remove and reserve subpart OO, consisting of §§ 98.410 through 98.418.

Subpart PP—[Removed and Reserved]

55. Remove and reserve subpart PP, consisting of §§ 98.420 through 98.428.

Subpart QQ—[Removed and Reserved]

56. Remove and reserve subpart QQ, consisting of §§ 98.430 through 98.438.

Subpart RR—[Removed and Reserved]

57. Remove and reserve subpart RR, consisting of §§ 98.440 through 98.449.

Subpart SS—[Removed and Reserved]

58. Remove and reserve subpart SS, consisting of §§ 98.450 through 98.458.

Subpart TT—[Removed and Reserved]

59. Remove and reserve subpart TT, consisting of §§ 98.460 through 98.468 and table TT-1 to subpart TT of Part 98.

Subpart UU—[Removed and Reserved]

60. Remove and reserve subpart UU, consisting of §§ 98.470 through 98.478.

Subpart VV—[Removed and Reserved]

61. Remove and reserve subpart VV, consisting of §§ 98.480 through 98.489.

Subpart WW—[Removed and Reserved]

62. Remove and reserve subpart WW, consisting of §§ 98.490 through 98.498.

Subpart XX—[Removed and Reserved]

63. Remove and reserve subpart XX, consisting of §§ 98.500 through 98.508.

Subpart YY—[Removed and Reserved]

64. Remove and reserve subpart YY, consisting of §§ 98.510 through 98.518 and table YY-1 to subpart YY of Part 98.

Subpart ZZ—[Removed and Reserved]

65. Remove and reserve subpart ZZ, consisting of §§ 98.520 through 98.528 and table ZZ-1 to subpart ZZ of Part 98.

[FR Doc. 2025-17923 Filed 9-15-25; 8:45 am]

BILLING CODE 6560-50-P